DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons, including the identified vessels, are blocked, and U.S. persons are generally prohibited from engaging in transactions with them.

DATES: This action was issued on January 10, 2025. See Supplementary Information section for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Actions

On January 10, 2025, OFAC determined that the property and interests in property subject to U.S. jurisdiction of the following persons are blocked under the relevant sanctions authorities listed below.

Individuals

1. ALEKPEROV, Yusuf Vagitovich (a.k.a. ALEKPEROV, Iussuf), Russia; DOB 20 Jun 1990; POB Moscow, Russia; nationality Russia; Gender Male; Secondary sanctions risk: See Section 11 of Executive Order 14024.; alt. Secondary sanctions risk: Ukraine-/Russia-Related Sanctions Regulations, 31 CFR 589.201 and/or 589.209; Tax ID No. 770300105897 (Russia) (individual) [UKRAINE-EO13662] [RUSSIA-EO14024].

Designated pursuant to section 1(a)(i) of Executive Order 13662 of March 20, 2014, “Blocking Property of Additional Persons Contributing to the Situation in Ukraine,” 79 FR 16169, 3 CFR, 2014 Comp., p. 233 (E.O. 13662) for operating in the energy sector of the Russian Federation economy.

Also designated pursuant to section 1(a)(i) of Executive Order 14024 of April 15, 2021, “Blocking Property With Respect To Specified Harmful Foreign Activities of the Government of the Russian Federation,” 86 FR 20249, 3 CFR, 2021 Comp., p. 542 (Apr. 15, 2021) (E.O. 14024) as amended by Executive Order 14114 of December 22, 2023, “Taking Additional Steps With Respect to the Russian Federation's Harmful Activities,” 88 FR 89271, 3 CFR, 2023 Comp., p. 721 (Dec. 22, 2023) (E.O. 14114). Also designated pursuant to section 1(a)(i) of E.O. 14024 for operating or having operated in the energy sector of the Russian Federation economy.

2. BOGDANOV, Vladimir Leonidovich, Russia; DOB 28 May 1951; POB Suyerka, Uporovsky District, Tyumen Region, Russian Federation; nationality Russia; Gender Male; Secondary sanctions risk: Ukraine-/Russia-Related Sanctions Regulations, 31 CFR 589.201 and/or 589.209; alt. Secondary sanctions risk: See Section 11 of Executive Order 14024.; alt. Secondary sanctions risk: Ukraine-/Russia-Related Sanctions Regulations, 31 CFR 589.201 and/or 589.209; Tax ID No. 860205272069 (Russia) (individual) [UKRAINE-EO13662] [RUSSIA-EO14024].

Designated pursuant to section 1(a)(i) of E.O. 14024 for operating or having operated in the energy sector of the Russian Federation economy.

3. CHERNOV, Vladimir Nikolaevich, Russia; DOB 1970; nationality Russia; Gender Male; Secondary sanctions risk: See Section 11 of Executive Order 14024.; alt. Secondary sanctions risk: Ukraine-/Russia-Related Sanctions Regulations, 31 CFR 589.201 and/or 589.209; Tax ID No. 720601297051 (Russia) (individual) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

4. DYUKOV, Aleksandr Valeryevich (a.k.a. DYUKOV, Alexander), Russia; DOB 13 Dec 1967; POB Saint Petersburg, Russia; nationality Russia; Gender Male; Secondary sanctions risk: See Section 11 of Executive Order 14024.; alt. Secondary sanctions risk: Ukraine-/Russia-Related Sanctions Regulations, 31 CFR 589.201 and/or 589.209; Tax ID No. 782570676482 (Russia) (individual) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

5. KUDRYASHOV, Sergei Ivanovich (a.k.a. KUDRYASHOV, Sergey Ivanovich), Russia; DOB 25 Jul 1967; nationality Russia; Gender Male; Secondary sanctions risk: See Section 11 of Executive Order 14024.; alt. Secondary sanctions risk: Ukraine-/Russia-Related Sanctions Regulations, 31 CFR 589.201 and/or 589.209; Tax ID No. 702203156990 (Russia) (individual) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

6. MAGANOV, Nail Ulfatovich, Russia; DOB 28 Jul 1958; POB Almetyevsk, Russia; nationality Russia; Gender Male; Secondary sanctions risk: See Section 11 of Executive Order 14024.; alt. Secondary sanctions risk: Ukraine-/Russia-Related Sanctions Regulations, 31 CFR 589.201 and/or 589.209; Tax ID No. 164401094935 (Russia) (individual) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

7. VOROBYEV, Vadim Nikolaevich (a.k.a. VOROBEV, Vadim Nikolaevich; a.k.a. VOROBYOV, Vadim Nikolaevich), Russia; DOB 16 Apr 1961; POB Pavlovo, Russia; nationality Russia; Gender Male; Secondary sanctions risk: See Section 11 of Executive Order 14024.; alt. Secondary sanctions risk: Ukraine-/Russia-Related Sanctions Regulations, 31 CFR 589.201 and/or 589.209 (individual) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

8. BOBYLEV, Peter Mikhailovich, Russia; DOB 21 Jul 1980; POB Chelyabinsk, Russia; nationality Russia; Gender Male; Secondary sanctions risk: See Section 11 of Executive Order 14024.; alt. Secondary sanctions risk: Ukraine-/Russia-Related Sanctions Regulations, 31 CFR 589.201 and/or 589.209 (individual) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

9. MARSHAVIN, Roman Anatolyevich, Russia; DOB 16 Sep 1977; POB Moscow, Russia; nationality Russia; Gender Male; Secondary sanctions risk: See Section 11 of Executive Order 14024.; alt. Secondary sanctions risk: Ukraine-/Russia-Related Sanctions Regulations, 31 CFR 589.201 and/or 589.209 (individual) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

10. PAVLOV, Vadim Alekseevich, Russia; DOB 05 Dec 1977; POB Kalinkovichi, Gomel Oblast, Belarus; nationality Russia; Gender Male; Secondary sanctions risk: See Section 11 of Executive Order 14024.; alt. Secondary sanctions risk: Ukraine-/Russia-Related Sanctions Regulations, 31 CFR 589.201 and/or 589.209 (individual) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

11. SEMENOV, Dmitry Borisovich, Russia; DOB 06 Aug 1981; POB Moscow, Russia; nationality Russia; Gender Male; Secondary sanctions risk: See Section 11 of Executive Order 14024.; alt. Secondary sanctions risk: Ukraine-/Russia-Related Sanctions Regulations, 31 CFR 589.201 and/or 589.209 (individual) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

12. SHEREMETTSEV, Eduard Mikhailovich, Russia; DOB 08 Feb 1979; POB Village of Karl Liebknecht, Kurchatovsky District, Kursk Region, Russia; nationality Russia; Gender Male; Secondary sanctions risk: See Section 11 of Executive Order 14024.; alt. Secondary sanctions risk: Ukraine-/Russia-Related Sanctions Regulations, 31 CFR 589.201 and/or 589.209 (individual) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

13. VERHOV, Artem Aleksandrovich (a.k.a. VERKHOV, Artem; a.k.a. VERKHOV, Artyom), Russia; DOB 03 Aug 1986; POB Zhezkazgan, Kazakhstan; nationality Russia; Gender Male; Secondary sanctions risk: See Section 11 of Executive Order 14024.; alt. Secondary sanctions risk: Ukraine-/Russia-Related Sanctions Regulations, 31 CFR 589.201 and/or 589.209 (individual) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

14. DERYUSHKIN, Denis Olegovich, Moscow, Russia; DOB 20 Oct 1988; POB Gorkiy, Russia; nationality Russia; Gender Male; Secondary sanctions risk: See Section 11 of Executive Order 14024.; alt. Secondary sanctions risk: Ukraine-/Russia-Related Sanctions Regulations, 31 CFR 589.201 and/or 589.209; Passport 758516894 (Russia) expires 17 Jul 2028 (individual) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

15. HALAVINS, Aleksejs, Riga, Latvia; DOB 19 Nov 1981; POB Riga, Latvia; nationality Latvia; Gender Male; Secondary sanctions risk: See Section 11 of Executive Order 14024.; alt. Secondary sanctions risk: Ukraine-/Russia-Related Sanctions Regulations, 31 CFR 589.201 and/or 589.209; Passport LV6197952 (Latvia) expires 28 Jul 2030; National ID No. 19118110919 (Latvia) (individual) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

16. NEMIROVSKIY, Alexander Valeryevich, Moscow, Russia; DOB 02 Jun 1989; POB Moscow, Russia; nationality Russia; Gender Male; Secondary sanctions risk: See Section 11 of Executive Order 14024.; alt. Secondary sanctions risk: Ukraine-/Russia-Related Sanctions Regulations, 31 CFR 589.201 and/or 589.209 (individual) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

Entities

1. AKTSIONERNOE OBSHCHESTVO ACHIMGAZ (a.k.a. AO ACHIMGAZ), Mkr Slavyanskii D. 10, Novyy Urengoy 629309, Russia; Secondary sanctions risk: See Section 11 of Executive Order 14024.; alt. Secondary sanctions risk: Ukraine-/Russia-Related Sanctions Regulations, 31 CFR 589.201 and/or 589.209; Tax ID No. 8904047896 (Russia); Registration Number 1068904007578 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

2. AKTSIONERNOE OBSHCHESTVO GAZPROM SHELFPROEKT (a.k.a. JSC GAZPROM SHELFPROJECT), Pr-Kt Leninskii D. 15A, Floor 9, Moscow 119071, Russia; Secondary sanctions risk: See Section 11 of Executive Order 14024.; alt. Secondary sanctions risk: Ukraine-/Russia-Related Sanctions Regulations, 31 CFR 589.201 and/or 589.209; Target Type State-Owned Enterprise; Tax ID No. 7730250045 (Russia); Registration Number 1197746185691 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

3. AKTSIONERNOE OBSHCHESTVO SAMOTLORNEFTEPROMKHIM (Cyrillic: АКЦИОНЕРНОЕ ОБЩЕСТВО САМОТЛОРНЕФТЕПРОМХИМ) (a.k.a. “AO SNPKH” (Cyrillic: “АО СНПХ”)), Ul. Industrialnaya D. 95, Str. 1, Nizhnevartovsk 628600, Russia; Ul. Industrialnaya ZD. 95, Str. 1, Nizhnevartovsk 628616, Russia; Secondary sanctions risk: See Section 11 of Executive Order 14024.; alt. Secondary sanctions risk: Ukraine-/Russia-Related Sanctions Regulations, 31 CFR 589.201 and/or 589.209; Tax ID No. 8603118208 (Russia); Registration Number 1048600521408 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

4. AKTSIONERNOE OBSHCHESTVO TSENTR EKSPLUATATSIONNYKH USLUG (a.k.a. “OPERATIONAL SERVICES CENTRE”), Bulv Chistoprudnyi D 12, Korp 2, Moscow 101000, Russia; Secondary sanctions risk: See Section 11 of Executive Order 14024.; alt. Secondary sanctions risk: Ukraine-/Russia-Related Sanctions Regulations, 31 CFR 589.201 and/or 589.209; Tax ID No. 9722010773 (Russia); Registration Number 1217700541850 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

5. AKTSIONERNOE OBSHCHESTVO UPRAVLENIE PO POVYSHENIYU NEFTEOTDACHI PLASTOV I KAPITALNOMU REMONTU SKVAZHIN (a.k.a. “AO UPNP I KRS”), Ul. Alma Atinskaya 125, Samara 443106, Russia; Zona Promyshlennaya D. 9 A, Svetloye 446368, Russia; Secondary sanctions risk: See Section 11 of Executive Order 14024.; alt. Secondary sanctions risk: Ukraine-/Russia-Related Sanctions Regulations, 31 CFR 589.201 and/or 589.209; Tax ID No. 6376000010 (Russia); Registration Number 1026303801809 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

6. ALFASTRAKHOVANIE GROUP (a.k.a. ALFASTRAKHOVANIE JSC; a.k.a. ALFASTRAKHOVANIE PLC), Likhacheva Prospekt, 15, Office 2/15, Moscow 115820, Russia; Ul. Shabolovka D. 31, Str. 5, Moscow 115162, Russia; website www.alfastrah.ru; Secondary sanctions risk: See Section 11 of Executive Order 14024.; alt. Secondary sanctions risk: Ukraine-/Russia-Related Sanctions Regulations, 31 CFR 589.201 and/or 589.209; Target Type Financial Institution; Tax ID No. 7713056834 (Russia); Legal Entity Number 253400QMD7MRJ6LTSS76 (Russia); Registration Number 1027739431730 (Russia) [UKRAINE-EO13662] [RUSSIA-EO14024].

Designated pursuant to section 1(a)(i) of E.O. 13662 for operating in the financial services sector of the Russian Federation economy. Also designated pursuant to section 1(a)(i) of E.O. 14024 for operating or having operated in the financial services sector of the Russian Federation economy.

7. AMBRA LIMITED, Rm. 18, 27/F, Ho King Comm Ctr, Hong Kong, China; Secondary sanctions risk: See Section 11 of Executive Order 14024.; alt. Secondary sanctions risk: Ukraine-/Russia-Related Sanctions Regulations, 31 CFR 589.201 and/or 589.209; Company Number 3308446 (Hong Kong); Business Registration Number 75612414 (Hong Kong) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

8. AMSHA MARITIME, Room 101, Ground Floor, Rifle Range Road, Ghatkopar West, Mumbai, India; Secondary sanctions risk: See Section 11 of Executive Order 14024.; alt. Secondary sanctions risk: Ukraine-/Russia-Related Sanctions Regulations, 31 CFR 589.201 and/or 589.209; Organization Established Date 2024; Identification Number IMO 6474020 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

9. AQUAQUASAR HOLDING LIMITED, Antigua, Antigua and Barbuda; Secondary sanctions risk: See Section 11 of Executive Order 14024.; alt. Secondary sanctions risk: Ukraine-/Russia-Related Sanctions Regulations, 31 CFR 589.201 and/or 589.209; Identification Number IMO 6482268 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

10. ARCTOS SHIPPING AND TRADE DMCC, 3O-01-5033 Jewellery & Gemplex 3, Dubai, United Arab Emirates; Secondary sanctions risk: See Section 11 of Executive Order 14024.; alt. Secondary sanctions risk: Ukraine-/Russia-Related Sanctions Regulations, 31 CFR 589.201 and/or 589.209; Organization Established Date 20 Nov 2023; Registration Number DMCC-908401 (United Arab Emirates); alt. Registration Number DMCC198423 (United Arab Emirates) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

11. ARGO TANKER GROUP LLC, Office 139, Building 2, Naberezhnaya Presnenskaya 10, Moscow 123112, Russia; Secondary sanctions risk: See Section 11 of Executive Order 14024.; alt. Secondary sanctions risk: Ukraine-/Russia-Related Sanctions Regulations, 31 CFR 589.201 and/or 589.209; Tax ID No. 9703142189 (Russia); Identification Number IMO 6426832 [UKRAINE-EO13662] [RUSSIA-EO14024].

Designated pursuant to section 1(a)(i) of E.O. 13662 for operating in the energy sector of the Russian Federation economy.

Also designated pursuant to section 1(a)(i) of E.O. 14024 operating or having operated in the energy sector of the Russian Federation economy.

12. ARGOS (Cyrillic: АРГОС), Ul. Morisa Toreza D. 1 B, Samara 443093, Russia; Ul. Tsentralnaya D. 15/10, Kogalym 628483, Russia; Secondary sanctions risk: See Section 11 of Executive Order 14024.; alt. Secondary sanctions risk: Ukraine-/Russia-Related Sanctions Regulations, 31 CFR 589.201 and/or 589.209; Organization Type: Support activities for petroleum and natural gas extraction; Tax ID No. 6311079117 (Russia); Registration Number 1056311044998 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

13. ARISTOS MARITIME INCORPORATED, Trust Company Complex, Ajeltake Road, Majuro, Ajeltake Island 96960, Marshall Islands; Secondary sanctions risk: See Section 11 of Executive Order 14024.; alt. Secondary sanctions risk: Ukraine-/Russia-Related Sanctions Regulations, 31 CFR 589.201 and/or 589.209; Identification Number IMO 6252035 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

14. ATLAS NNB (Cyrillic: АТЛАС ННБ) (a.k.a. ATLAS DIRECTIONAL DRILLING SERVICES; a.k.a. “ATLAS DDS”), Ul. Grimau D. 10, pomeshch. 7, Moscow 117036, Russia; Ul. Mozhaysky Val, Dom 8, Str. S, 10 etazh, Moscow, Russia; Secondary sanctions risk: See Section 11 of Executive Order 14024.; alt. Secondary sanctions risk: Ukraine-/Russia-Related Sanctions Regulations, 31 CFR 589.201 and/or 589.209; Tax ID No. 5836673287 (Russia); Registration Number 1155836003212 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

15. BLACK PEARL ENERGY TRADING LLC (a.k.a. BLACK PEARL ENERGY TRADING LLC FZ; a.k.a. OGC SHIPPING LLC FZ; a.k.a. STARLINE MANAGEMENT FZ LLC), Business Center 1, M Floor, The Meydan Hotel, Nad Al Sheba, Dubai, United Arab Emirates; Secondary sanctions risk: See Section 11 of Executive Order 14024.; alt. Secondary sanctions risk: Ukraine-/Russia-Related Sanctions Regulations, 31 CFR 589.201 and/or 589.209; Organization Established Date 30 Mar 2022; Registration Number 2201205 (United Arab Emirates) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

16. BLUEJOURNEY SHIPPING LIMITED, 60, Nevis Street, St. John's, Antigua and Barbuda; Secondary sanctions risk: See Section 11 of Executive Order 14024.; alt. Secondary sanctions risk: Ukraine-/Russia-Related Sanctions Regulations, 31 CFR 589.201 and/or 589.209; Identification Number IMO 6474033 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

17. CELESTIAL STAR CORPORATION, Suite 10, 3rd Floor, La Ciotat, Mont Fleuri, Mahe, Seychelles; Secondary sanctions risk: See Section 11 of Executive Order 14024.; alt. Secondary sanctions risk: Ukraine-/Russia-Related Sanctions Regulations, 31 CFR 589.201 and/or 589.209; Identification Number IMO 6437253 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

18. CHAMAIYATI DOROI MASAULIYATI MAKHDUDI GAZPROM NEFT TADZHIKISTAN (a.k.a. GAZPROM NEFT TAJIKISTAN LLC), Shokhmansur, Ayni, Dushanbe, Tajikistan; Secondary sanctions risk: See Section 11 of Executive Order 14024.; alt. Secondary sanctions risk: Ukraine-/Russia-Related Sanctions Regulations, 31 CFR 589.201 and/or 589.209; Tax ID No. 010023372 (Tajikistan); Business Registration Number 0110000477 (Tajikistan) [UKRAINE-EO13662] [RUSSIA-EO14024] (Linked To: PUBLIC JOINT STOCK COMPANY GAZPROM NEFT).

Designated pursuant to section 1(a)(iii) of E.O. 13662 for being owned or controlled by, or having acted or purported to act for or on behalf of, directly or indirectly, PUBLIC JOINT STOCK COMPANY GAZPROM NEFT, a person whose property and interests in property are blocked pursuant to E.O. 13662.

Also designated pursuant to section 1(a)(vii) of E.O. 14024 for being owned or controlled by, or having acted or purported to act for or on behalf of, directly or indirectly, PUBLIC JOINT STOCK COMPANY GAZPROM NEFT, a person whose property and interests in property are blocked pursuant to E.O. 14024.

19. CHENG SHIPPING AND TRADER LIMITED, Suite 212, 2nd Floor, Block A, La Ciotat, Mont Fleuri, Mahe, Seychelles; Secondary sanctions risk: See Section 11 of Executive Order 14024.; alt. Secondary sanctions risk: Ukraine-/Russia-Related Sanctions Regulations, 31 CFR 589.201 and/or 589.209; Identification Number IMO 6419328 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

20. COLUMBA LIMITED, Hong Kong, China; Secondary sanctions risk: See Section 11 of Executive Order 14024.; alt. Secondary sanctions risk: Ukraine-/Russia-Related Sanctions Regulations, 31 CFR 589.201 and/or 589.209; Organization Established Date 2022; Identification Number IMO 6341429 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

21. CONMAR MARITIME DMCC, Dubai, United Arab Emirates; Secondary sanctions risk: See Section 11 of Executive Order 14024.; alt. Secondary sanctions risk: Ukraine-/Russia-Related Sanctions Regulations, 31 CFR 589.201 and/or 589.209; Organization Established Date 23 Jan 2023; Commercial Registry Number 195872 (United Arab Emirates); Registration Number DMCC-874218 (United Arab Emirates) [UKRAINE-EO13662] [RUSSIA-EO14024] (Linked To: BLACK PEARL ENERGY TRADING LLC).

Designated pursuant to section 1(a)(iii) of E.O. 13662 for being owned or controlled by, or having acted or purported to act for or on behalf of, directly or indirectly, BLACK PEARL ENERGY TRADING LLC, a person whose property and interests in property are blocked pursuant to E.O. 13662.

Also designated pursuant to section 1(a)(vii) of E.O. 14024 for being owned or controlled by, or having acted or purported to act for or on behalf of, directly or indirectly, BLACK PEARL ENERGY TRADING LLC, a person whose property and interests in property are blocked pursuant to E.O. 14024.

22. CONRAD MANAGEMENT COMPANY LLC FZ, Business Center 1, M Floor, The Meydan Hotel, Nad Al, Sheba, Dubai, United Arab Emirates; Secondary sanctions risk: See Section 11 of Executive Order 14024.; alt. Secondary sanctions risk: Ukraine-/Russia-Related Sanctions Regulations, 31 CFR 589.201 and/or 589.209; Organization Established Date 27 Jan 2022; Business Registration Number 2200438.1 (United Arab Emirates) [UKRAINE-EO13662] [RUSSIA-EO14024] (Linked To: HALAVINS, Aleksejs).

Designated pursuant to section 1(a)(iii) of E.O. 13662 for being owned or controlled by, or having acted or purported to act for or on behalf of, directly or indirectly, ALEKSEJS HALAVINS, a person whose property and interests in property are blocked pursuant to to E.O. 13662.

Also designated pursuant to section 1(a)(vii) of E.O. 14024 for being owned or controlled by, or having acted or purported to act for or on behalf of, directly or indirectly, ALEKSEJS HALAVINS, a person whose property and interests in property are blocked pursuant to E.O. 14024.

23. CRIUS LIMITED, Block 3, Un Shing House Phase 3, Un Chau Street, Kowloon, Hong Kong, China; Secondary sanctions risk: See Section 11 of Executive Order 14024.; alt. Secondary sanctions risk: Ukraine-/Russia-Related Sanctions Regulations, 31 CFR 589.201 and/or 589.209; Organization Established Date 2022; Identification Number IMO 6355621 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

24. CUBE VENTURES SHIPPING SA, Trust Company Complex, Ajeltake Road, Majuro, Ajeltake Island MH96960, Marshall Islands; Secondary sanctions risk: See Section 11 of Executive Order 14024.; alt. Secondary sanctions risk: Ukraine-/Russia-Related Sanctions Regulations, 31 CFR 589.201 and/or 589.209; Identification Number IMO 6389478 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

25. DANIKA ROBERT LIMITED, 6/F, Block 30, City One Shatin, Flat B, Hong Kong, China; Secondary sanctions risk: See Section 11 of Executive Order 14024.; alt. Secondary sanctions risk: Ukraine-/Russia-Related Sanctions Regulations, 31 CFR 589.201 and/or 589.209; Organization Established Date 2022; Organization Type: Transportation and storage; Identification Number IMO 6371374 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

26. DEMEX TRADING LIMITED DMCC, Unit No: 2904, Plot No: JLT-PH2-Y1A, JBC3, Jumeirah Lake Towers, Dubai, United Arab Emirates; Secondary sanctions risk: See Section 11 of Executive Order 14024.; alt. Secondary sanctions risk: Ukraine-/Russia-Related Sanctions Regulations, 31 CFR 589.201 and/or 589.209; Registration Number DMCC-772021 (United Arab Emirates) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

27. DENKARS (Cyrillic: ДЕНКАРС), Ter. Severnyi Promyshlennyi Uzel Goroda d. 4ps, Nizhnevartovsk 628600, Russia; Secondary sanctions risk: See Section 11 of Executive Order 14024.; alt. Secondary sanctions risk: Ukraine-/Russia-Related Sanctions Regulations, 31 CFR 589.201 and/or 589.209; Organization Established Date 30 Jul 2001; Tax ID No. 8603100120 (Russia); Registration Number 1028600947650 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

28. JOINT STOCK COMPANY SOVCOMFLOT (a.k.a. JSC SOVCOMFLOT; a.k.a. PAO SOVCOMFLOT; a.k.a. PUBLIC JOINT STOCK COMPANY MODERN COMMERCIAL FLEET; a.k.a. PUBLICHNOE AKTSIONERNOE OBSCHESTVO SOVREMENNYY KOMMERCHESKIY FLOT; a.k.a. “SCF”; a.k.a. “SCF GROUP”), Ul. Gasheka D. 6, Moscow 125047, Russia; Nab. Reki Moiki d.3, Lit. A, Saint Petersburg 191186, Russia; Building 3, Letter A, Moyka River Embankment, Saint Petersburg 191186, Russia; website sovcomflot.ru; alt. Website www.scf-group.com; Secondary sanctions risk: See Section 11 of Executive Order 14024.; alt. Secondary sanctions risk: Ukraine-/Russia-Related Sanctions Regulations, 31 CFR 589.201 and/or 589.209; Executive Order 14024 Directive Information—For more information on directives, please visit the following link: https://home.treasury.gov/policy-issues/financial-sanctions/sanctions-programs-and-country-information/russian-harmful-foreign-activities-sanctions#directives; Executive Order 14024 Directive Information Subject to Directive 3—All transactions in, provision of financing for, and other dealings in new debt of longer than 14 days maturity or new equity where such new debt or new equity is issued on or after the `Effective Date (E.O. 14024 Directive)' associated with this name are prohibited.; Listing Date (E.O. 14024 Directive 3): 24 Feb 2022; Effective Date (E.O. 14024 Directive 3): 26 Mar 2022; Tax ID No. 7702060116 (Russia); Legal Entity Number 253400DYLWR5A6YAWJ69; Registration Number 1027739028712 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

29. PUBLIC JOINT STOCK COMPANY GAZPROM NEFT (a.k.a. GAZPROM NEFT JOINT STOCK COMPANY; a.k.a. GAZPROM NEFT PAO; a.k.a. GAZPROM NEFT PJSC; a.k.a. PUBLICHNOE AKTSIONERNOE OBSHCHESTVO GAZPROM NEFT), 5, Let. A, Galernaya, Saint Petersburg 190000, Russia; d. 3-5 litera A Ch. Pom. 1N kab. 2401, ul. Pochtamtskaya, St. Petersburg 190000, Russia; Executive Order 13662 Directive Determination—Subject to Directive 2; alt. Executive Order 13662 Directive Determination—Subject to Directive 4; Secondary sanctions risk: Ukraine-/Russia-Related Sanctions Regulations, 31 CFR 589.201 and/or 589.209; alt. Secondary sanctions risk: See Section 11 of Executive Order 14024.; Executive Order 14024 Directive Information—For more information on directives, please visit the following link: https://home.treasury.gov/policy-issues/financial-sanctions/sanctions-programs-and-country-information/russian-harmful-foreign-activities-sanctions#directives; Executive Order 14024 Directive Information Subject to Directive 3—All transactions in, provision of financing for, and other dealings in new debt of longer than 14 days maturity or new equity where such new debt or new equity is issued on or after the `Effective Date (E.O. 14024 Directive)' associated with this name are prohibited.; Listing Date (E.O. 14024 Directive 3): 24 Feb 2022; Effective Date (E.O. 14024 Directive 3): 26 Mar 2022; Tax ID No. 5504036333 (Russia); Government Gazette Number 42045241 (Russia); Registration Number 1025501701686 (Russia); For more information on directives, please visit the following link: http://www.treasury.gov/resource-center/sanctions/Programs/Pages/ukraine.aspx#directives. [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

30. DOUBLE HARMONY MARINE CORPORATION, Suite 10, 3rd Floor, La Ciotat Mont Fleuri, Mahe, Seychelles; Secondary sanctions risk: See Section 11 of Executive Order 14024.; alt. Secondary sanctions risk: Ukraine-/Russia-Related Sanctions Regulations, 31 CFR 589.201 and/or 589.209; Identification Number IMO 6399148 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

31. DOXA SHIPPING LINE INC, LLC Plot 341-0, Al Zarooni Building, Al Murar, Dubai, United Arab Emirates; Secondary sanctions risk: Ukraine-/Russia-Related Sanctions Regulations, 31 CFR 589.201 and/or 589.209; alt. Secondary sanctions risk: See Section 11 of Executive Order 14024.; Identification Number IMO 6386734 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

32. ELGON MARITIME CORPORATION, 1st Floor, Dekk House, Zippora, Street, Providence Industrial Estate, Victoria, Mahe, Seychelles; Secondary sanctions risk: See Section 11 of Executive Order 14024.; alt. Secondary sanctions risk: Ukraine-/Russia-Related Sanctions Regulations, 31 CFR 589.201 and/or 589.209; Identification Number IMO 6466047 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

33. ENERGY OF OIL AND GAS SERVICE LLC (a.k.a. “ENGS LLC”), Yakimanskaya Naberezhnaya D. 4, Str.1, Moscow 119180, Russia; Ul. Grimau D. 10A, Str. 1, Moscow 117292, Russia; Secondary sanctions risk: See Section 11 of Executive Order 14024.; alt. Secondary sanctions risk: Ukraine-/Russia-Related Sanctions Regulations, 31 CFR 589.201 and/or 589.209; Tax ID No. 7727650928 (Russia); Registration Number 1087746582714 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

34. ETERRA CRUDE OIL ABROAD TRADING LLC, Dubai, United Arab Emirates; Secondary sanctions risk: See Section 11 of Executive Order 14024.; alt. Secondary sanctions risk: Ukraine-/Russia-Related Sanctions Regulations, 31 CFR 589.201 and/or 589.209; Organization Established Date 25 Nov 2022; Chamber of Commerce Number 431348 (United Arab Emirates); Registration Number 1849492 (United Arab Emirates) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

35. FORNAX SHIP MANAGEMENT FZCO, Unit 40260-001, Building A1, IFZA Business Park, Dubai Silicon Oasis, Dubai, United Arab Emirates; Secondary sanctions risk: See Section 11 of Executive Order 14024.; alt. Secondary sanctions risk: Ukraine-/Russia-Related Sanctions Regulations, 31 CFR 589.201 and/or 589.209; Identification Number IMO 6466241 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

36. FRAKDZHET VOLGA, Pr-Kt Fridrikha Engelsa D. 207, Engels 413111, Russia; Secondary sanctions risk: See Section 11 of Executive Order 14024.; alt. Secondary sanctions risk: Ukraine-/Russia-Related Sanctions Regulations, 31 CFR 589.201 and/or 589.209; Tax ID No. 6432005462 (Russia); Registration Number 1076432002680 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

37. FRINA EXPRESS CORPORATION, Suite 10, 3rd Floor, La Ciotat, Mont Fleuri, Mahe Island, Seychelles; Secondary sanctions risk: See Section 11 of Executive Order 14024.; alt. Secondary sanctions risk: Ukraine-/Russia-Related Sanctions Regulations, 31 CFR 589.201 and/or 589.209; Identification Number IMO 6507506 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

38. FULDA SHIPPING CO, 80 Broad Street, Monrovia, Liberia; Secondary sanctions risk: See Section 11 of Executive Order 14024.; alt. Secondary sanctions risk: Ukraine-/Russia-Related Sanctions Regulations, 31 CFR 589.201 and/or 589.209; Organization Established Date 2024; Identification Number IMO 6491531; Registration Number C-126622 (Liberia) [UKRAINE-EO13662] [RUSSIA-EO14024] (Linked To: HALAVINS, Aleksejs).

Designated pursuant to section 1(a)(iii) of E.O. for being owned or controlled by, or having acted or purported to act for or on behalf of, directly or indirectly, ALEKSEJS HALAVINS, a person whose property and interests in property are blocked pursuant to E.O. 13662.

Also designated pursuant to section 1(a)(vii) of E.O. 14024 for being owned or controlled by, or having acted or purported to act for or on behalf of, directly or indirectly, ALEKSEJS HALAVINS, a person whose property and interests in property are blocked pursuant to E.O. 14024.

39. GAZPROM NEFT INTERNATIONAL SA, Rue Matthias Hardt 8-10, Luxembourg 1717, Luxembourg; Secondary sanctions risk: See Section 11 of Executive Order 14024.; alt. Secondary sanctions risk: Ukraine-/Russia-Related Sanctions Regulations, 31 CFR 589.201 and/or 589.209; Business Registration Number B 154.621 (Luxembourg) [UKRAINE-EO13662] [RUSSIA-EO14024] (Linked To: PUBLIC JOINT STOCK COMPANY GAZPROM NEFT).

Designated pursuant to section 1(a)(iii) of E.O. 13662 for being owned or controlled by, or having acted or purported to act for or on behalf of, directly or indirectly, PUBLIC JOINT STOCK COMPANY GAZPROM NEFT, a person whose property and interests in property are blocked pursuant to E.O. 13662.

Also designated pursuant to section 1(a)(vii) of E.O. 14024 for being owned or controlled by, or having acted or purported to act for or on behalf of, directly or indirectly, PUBLIC JOINT STOCK COMPANY GAZPROM NEFT, a person whose property and interests in property are blocked pursuant to E.O. 14024.

40. GAZPROM NEFT KAZAKHSTAN LLC, Prospekt Abaya 26 A, 2 Floor, Almaty 050013, Kazakhstan; Furmanova 187B, Almaty 050000, Kazakhstan; Secondary sanctions risk: See Section 11 of Executive Order 14024.; alt. Secondary sanctions risk: Ukraine-/Russia-Related Sanctions Regulations, 31 CFR 589.201 and/or 589.209; Business Registration Number 070540009192 (Kazakhstan) [UKRAINE-EO13662] [RUSSIA-EO14024] (Linked To: PUBLIC JOINT STOCK COMPANY GAZPROM NEFT).

Designated pursuant to section 1(a)(iii) of E.O. 13662 for being owned or controlled by, or having acted or purported to act for or on behalf of, directly or indirectly, PUBLIC JOINT STOCK COMPANY GAZPROM NEFT, a person whose property and interests in property are blocked pursuant to E.O. 13662.

Also designated pursuant to section 1(a)(vii) of E.O. 14024 for being owned or controlled by, or having acted or purported to act for or on behalf of, directly or indirectly, PUBLIC JOINT STOCK COMPANY GAZPROM NEFT, a person whose property and interests in property are blocked pursuant to E.O. 14024.

41. GAZPROM NEFT SHELF LIMITED LIABILITY COMPANY, Pr-kt Nevskii D. 38/4, Saint Petersburg 191186, Russia; Secondary sanctions risk: See Section 11 of Executive Order 14024.; alt. Secondary sanctions risk: Ukraine-/Russia-Related Sanctions Regulations, 31 CFR 589.201 and/or 589.209; Tax ID No. 7725610285 (Russia); Registration Number 5077746978315 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

42. GAZPROMNEFT AERO JOINT STOCK COMPANY (a.k.a. GAZPROMNEFT AERO AO), Zoologicheskii Per Dom 2-4, Lit. B, Saint Petersburg 197198, Russia; Ul. Krzhizhanovskogo D. 14, Korp. 3, Saint Petersburg 197198, Russia; Ul. Chapaev 15, Lit. A, Saint Petersburg 197101, Russia; Secondary sanctions risk: See Section 11 of Executive Order 14024.; alt. Secondary sanctions risk: Ukraine-/Russia-Related Sanctions Regulations, 31 CFR 589.201 and/or 589.209; Tax ID No. 7714117720 (Russia); Registration Number 1027700232614 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

43. GAZPROMNEFT BITUMEN MATERIALS LIMITED LIABILITY COMPANY, 3-ya Liniya V.O. D. 62, Lit. A, Saint Petersburg 199178, Russia; Pr-kt Bolshoi V.O. D. 80, Lit. R, Floor 5, 6, Saint Petersburg 199106, Russia; Secondary sanctions risk: See Section 11 of Executive Order 14024.; alt. Secondary sanctions risk: Ukraine-/Russia-Related Sanctions Regulations, 31 CFR 589.201 and/or 589.209; Tax ID No. 6234000600 (Russia); Registration Number 1036238001645 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

44. GAZPROMNEFT KHANTOS LIMITED LIABILITY COMPANY, Ul. Lenina D. 56, Khanty-Mansiysk 628011, Russia; Secondary sanctions risk: See Section 11 of Executive Order 14024.; alt. Secondary sanctions risk: Ukraine-/Russia-Related Sanctions Regulations, 31 CFR 589.201 and/or 589.209; Tax ID No. 8618006063 (Russia); Registration Number 1058600001118 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

45. GAZPROMNEFT LUBRICANTS LTD (a.k.a. GAZPROMNEFT LUBRICANTS LLC; a.k.a. GAZPROMNEFT SM LLC), Ul. Krzhizhanovskogo D. 14/3, Blok B, Moscow 117218, Russia; Leningradsky Avenue 37A, Building 4, BC Arcus III, Moscow 125167, Russia; Secondary sanctions risk: See Section 11 of Executive Order 14024.; alt. Secondary sanctions risk: Ukraine-/Russia-Related Sanctions Regulations, 31 CFR 589.201 and/or 589.209; Tax ID No. 7728640182 (Russia); Registration Number 1077762940331 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

46. GAZPROMNEFT MARINE BUNKER LIMITED LIABILITY COMPANY, 3-ya Liniya V.O d. 62, 5, lit. A, Saint Petersburg 199178, Russia; Block R, 80 Bolshoi prospect, Vasilyevski Island, Saint Petersburg 199106, Russia; Ul. Galernaya 5 Lit A., Saint Petersburg 190000, Russia; Secondary sanctions risk: See Section 11 of Executive Order 14024.; alt. Secondary sanctions risk: Ukraine-/Russia-Related Sanctions Regulations, 31 CFR 589.201 and/or 589.209; Tax ID No. 7838392447 (Russia); Identification Number IMO 5402692; Registration Number 1077847626042 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

47. GAZPROMNEFT MOSCOW REFINERY JOINT STOCK COMPANY (a.k.a. AO GAZPROMNEFT MORP; a.k.a. AO GAZPROMNEFT MOSCOW REFINERY PLANT; a.k.a. GAZPROM NEFT MOSCOW REFINERY JSC; a.k.a. GAZPROMNEFT MNPZ AO; a.k.a. GAZPROMNEFT MOSKOVSKIY NPZ AO), Kv-l Kapotnya 2-I D. 1, K. 3, Russia 109429, Russia; Secondary sanctions risk: See Section 11 of Executive Order 14024.; alt. Secondary sanctions risk: Ukraine-/Russia-Related Sanctions Regulations, 31 CFR 589.201 and/or 589.209; Tax ID No. 7723006328 (Russia); Registration Number 1027700500190 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

48. GAZPROMNEFT NOYABRSK OIL AND GAS JOINT STOCK COMPANY (a.k.a. GAZPROMNEFT NOYABRSKNEFTEGAZ), Ul. Lenina D. 59/87, Noyabrsk 629807, Russia; Secondary sanctions risk: See Section 11 of Executive Order 14024.; alt. Secondary sanctions risk: Ukraine-/Russia-Related Sanctions Regulations, 31 CFR 589.201 and/or 589.209; Tax ID No. 8905000428 (Russia); Registration Number 1028900703963 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

49. GAZPROMNEFT OMSK REFINERY JOINT STOCK COMPANY (a.k.a. GAZPROM NEFT OMSK REFINERY JSC; a.k.a. GAZPROMNEFT ONPZ OMSKIY REFINERY), PR-KT Gubkina, D. 1, Omsk 644040, Russia; Secondary sanctions risk: See Section 11 of Executive Order 14024.; alt. Secondary sanctions risk: Ukraine-/Russia-Related Sanctions Regulations, 31 CFR 589.201 and/or 589.209; Tax ID No. 5501041254 (Russia); Registration Number 1025500508956 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

50. GAZPROMNEFT ORENBURG LIMITED LIABILITY COMPANY (a.k.a. GAZPROM NEFT ORENBURG LLC; a.k.a. GAZPROM NEFT ORENBURG ZAO), Ul. Krasnoznamennaya D. 56/1, Orenburg 460024, Russia; Secondary sanctions risk: See Section 11 of Executive Order 14024.; alt. Secondary sanctions risk: Ukraine-/Russia-Related Sanctions Regulations, 31 CFR 589.201 and/or 589.209; Tax ID No. 5610218014 (Russia); Registration Number 1165658052450 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

51. GAZPROMNEFT TECHNOLOGICAL PARTNERSHIPS LIMITED LIABILITY COMPANY (a.k.a. “INDUSTRIX”), Ul. Yakubovicha d. 24, lit. A, Saint Petersburg 190000, Russia; ul. Promyshlennaya zd. 19, pomeshch. 403, Khanty-Mansiysk 628011, Russia; Secondary sanctions risk: See Section 11 of Executive Order 14024.; alt. Secondary sanctions risk: Ukraine-/Russia-Related Sanctions Regulations, 31 CFR 589.201 and/or 589.209; Target Type State-Owned Enterprise; Tax ID No. 8601066868 (Russia); Registration Number 1188617010064 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

52. GAZPROMNEFT VOSTOK LLC, Ul. Nakhimova D. 13A, Str. 1, Tomsk 634045, Russia; Secondary sanctions risk: See Section 11 of Executive Order 14024.; alt. Secondary sanctions risk: Ukraine-/Russia-Related Sanctions Regulations, 31 CFR 589.201 and/or 589.209; Tax ID No. 7017126251 (Russia); Registration Number 1057002610378 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

53. GAZPROMNEFT YAMAL LIMITED LIABILITY COMPANY (a.k.a. GAZPROM NEFTEKHIM YAMAL), Ul. 50 Let Oktyabrya D. 8B, Tyumen 625000, Russia; Ul. Mira D. 43A, Salekhard 629002, Russia; Secondary sanctions risk: See Section 11 of Executive Order 14024.; alt. Secondary sanctions risk: Ukraine-/Russia-Related Sanctions Regulations, 31 CFR 589.201 and/or 589.209; Tax ID No. 8901001822 (Russia); Registration Number 1118903004989 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

54. GAZPROMNEFT ZAPOLYARYE LIMITED LIABILITY COMPANY (a.k.a. GAZPROMNEFT ZAPOLYARYE LLC), Ul. Taezhnaya D. 30A, Pomeshch. 10, Kabinet 207, Novyy Urengoy 629305, Russia; Secondary sanctions risk: See Section 11 of Executive Order 14024.; alt. Secondary sanctions risk: Ukraine-/Russia-Related Sanctions Regulations, 31 CFR 589.201 and/or 589.209; Target Type State-Owned Enterprise; Tax ID No. 7728720448 (Russia); Registration Number 1097746829740 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

55. GESSI MARITIME CORPORATION, 1st Floor, Dekk House, Zippora Street, Providence Industrial Estate, Victoria, Mahe, Seychelles; Secondary sanctions risk: See Section 11 of Executive Order 14024.; alt. Secondary sanctions risk: Ukraine-/Russia-Related Sanctions Regulations, 31 CFR 589.201 and/or 589.209; Identification Number IMO 6466149 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

56. GIFTED PEAK LIMITED, Hong Kong, China; Secondary sanctions risk: See Section 11 of Executive Order 14024.; alt. Secondary sanctions risk: Ukraine-/Russia-Related Sanctions Regulations, 31 CFR 589.201 and/or 589.209; Organization Established Date 31 Jan 2022; Company Number 3125459; Business Registration Number 73768871 (Hong Kong) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

57. GURON TRADING LIMITED, Unit 1411, 14/Floor, Cosco Tower, 183 Queen's Road, Sheung Wan, Hong Kong, China; Secondary sanctions risk: See Section 11 of Executive Order 14024.; alt. Secondary sanctions risk: Ukraine-/Russia-Related Sanctions Regulations, 31 CFR 589.201 and/or 589.209; Organization Established Date 20 Dec 2021; Company Number 3114250 (Hong Kong); Business Registration Number 73655404 (Hong Kong) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

58. HAIMA SHIPPING LIMITED, Mahe, Seychelles; Secondary sanctions risk: See Section 11 of Executive Order 14024.; alt. Secondary sanctions risk: Ukraine-/Russia-Related Sanctions Regulations, 31 CFR 589.201 and/or 589.209; Identification Number IMO 6413519 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

59. HARMONY GROVE CORPORATION, Suite 10, 3rd Floor, La Ciotat, Mont Fleuri, Mahe, Seychelles; Secondary sanctions risk: See Section 11 of Executive Order 14024.; alt. Secondary sanctions risk: Ukraine-/Russia-Related Sanctions Regulations, 31 CFR 589.201 and/or 589.209; Identification Number IMO 6457171 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

60. HENGTAI SHIPPING LIMITED, Trust Company Complex, Ajeltake Road, Majuro, Ajeltake Island, Marshall Islands; Secondary sanctions risk: See Section 11 of Executive Order 14024.; alt. Secondary sanctions risk: Ukraine-/Russia-Related Sanctions Regulations, 31 CFR 589.201 and/or 589.209; Identification Number IMO 6498321 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

61. HERA GAM LIMITED, Unit 18, 9th Floor, Tower A, New Mandarin Plaza, 14, Science Museum Road, Tsim Sha Tsui East, Kowloon, Hong Kong, China; Secondary sanctions risk: See Section 11 of Executive Order 14024.; alt. Secondary sanctions risk: Ukraine-/Russia-Related Sanctions Regulations, 31 CFR 589.201 and/or 589.209; Identification Number IMO 6473636 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

62. HONG KONG HANYUAN SHIPPING CO LIMITED, Rm. 4, 16/F, Ho King Comm Ctr, Hong Kong, China; Secondary sanctions risk: See Section 11 of Executive Order 14024.; alt. Secondary sanctions risk: Ukraine-/Russia-Related Sanctions Regulations, 31 CFR 589.201 and/or 589.209; Organization Established Date 13 Jun 2022; Company Number 3161890 (Hong Kong); Business Registration Number 74136104 (Hong Kong) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

63. HONG KONG YONGYE SHIPPING LIMITED, Room 1003, 10th Floor, Tower 1, Lippo Centre, 89, Queensway, Central Admiralty, Hong Kong, China; Secondary sanctions risk: See Section 11 of Executive Order 14024.; alt. Secondary sanctions risk: Ukraine-/Russia-Related Sanctions Regulations, 31 CFR 589.201 and/or 589.209; Identification Number IMO 6361055 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

64. HUIHAI HONG KONG SHIPPING CO LIMITED, Rm. 4, 16/F, Ho King Comm Ctr, 2—16 Fayuen St, Hong Kong, China; Secondary sanctions risk: See Section 11 of Executive Order 14024.; alt. Secondary sanctions risk: Ukraine-/Russia-Related Sanctions Regulations, 31 CFR 589.201 and/or 589.209; Organization Established Date 30 May 2022; Company Number 3157252 (Hong Kong); Business Registration Number 74089456 (Hong Kong) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

65. INGOSSTRAKH INSURANCE COMPANY, Ul. Pyatnitskaya D. 12, Str. 2, Moscow 117997, Russia; Secondary sanctions risk: See Section 11 of Executive Order 14024.; alt. Secondary sanctions risk: Ukraine-/Russia-Related Sanctions Regulations, 31 CFR 589.201 and/or 589.209; Tax ID No. 7705042179 (Russia); Legal Entity Number 253400GMWZ0DBU6G0E87; Registration Number 1027739362474 (Russia) [UKRAINE-EO13662] [RUSSIA-EO14024].

Designated pursuant to section 1(a)(i) of E.O. 13662 for operating in the financial services sector of the Russian Federation economy.

Also designated pursuant to section 1(a)(i) of E.O. 14024 for operating or having operated in the financial services sector of the Russian Federation economy.

66. INTERNATIONAL MARINE MANAGEMENT FZE, P.O. Box 4422, Fujairah, United Arab Emirates; Secondary sanctions risk: See Section 11 of Executive Order 14024.; alt. Secondary sanctions risk: Ukraine-/Russia-Related Sanctions Regulations, 31 CFR 589.201 and/or 589.209 [UKRAINE-EO13662] [RUSSIA-EO14024] (Linked To: HALAVINS, Aleksejs).

Designated pursuant to section 1(a)(iii) of E.O. 13662 for being owned or controlled by, or having acted or purported to act for or on behalf of, directly or indirectly, ALEKSEJS HALAVINS, a person whose property and interests in property are blocked pursuant to E.O. 13662.

Also designated pursuant to section 1(a)(vii) of E.O. 14024 for being owned or controlled by, or having acted or purported to act for or on behalf of, directly or indirectly, ALEKSEJS HALAVINS, a person whose property and interests in property are blocked pursuant to E.O. 14024.

67. JOINT STOCK COMPANY INVESTGEOSERVIS (a.k.a. AO INVESTGEOSERVIS), Pr-Kt 60 Letiya Oktyabrya D. 10A, Pom XXII, Moscow 117036, Russia; Secondary sanctions risk: See Section 11 of Executive Order 14024.; alt. Secondary sanctions risk: Ukraine-/Russia-Related Sanctions Regulations, 31 CFR 589.201 and/or 589.209; Tax ID No. 7704627560 (Russia); Registration Number 1067760718871 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

68. JOINT STOCK COMPANY OFS TECHNOLOGIES (a.k.a. OFS TECHNOLOGIES JSC), Proezd 1-I Krasnogvardeiskii D. 22, Str. 1, Floor/Pomeshch. 8/8.23, Mesto 174, Moscow 123112, Russia; Secondary sanctions risk: See Section 11 of Executive Order 14024.; alt. Secondary sanctions risk: Ukraine-/Russia-Related Sanctions Regulations, 31 CFR 589.201 and/or 589.209; Tax ID No. 7714024384 (Russia); Registration Number 1027739299961 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

69. JOINT STOCK COMPANY ROSNEFTEFLOT, Nab. Presnenskaya D. 6, Str. 2, Delovoi Kompleks Imperiya, Moscow 109004, Russia; Secondary sanctions risk: See Section 11 of Executive Order 14024.; alt. Secondary sanctions risk: Ukraine-/Russia-Related Sanctions Regulations, 31 CFR 589.201 and/or 589.209; Tax ID No. 6501096047 (Russia); Registration Number 1026500526590 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

70. JOINT STOCK COMPANY SURGUTNEFTEGASBANK (a.k.a. CLOSED JOINT STOCK COMPANY SURGUTNEFTEGASBANK; a.k.a. JSC BANK SNGB; a.k.a. SNGB AO; a.k.a. ZAO SNGB), 19 Kukuyevitskogo Street, Surgut 628400, Russia; website www.sngb.ru; Executive Order 13662 Directive Determination—Subject to Directive 4; Nationality of Registration Russia; Secondary sanctions risk: Ukraine-/Russia-Related Sanctions Regulations, 31 CFR 589.201 and/or 589.209; alt. Secondary sanctions risk: See Section 11 of Executive Order 14024.; Registration ID 1028600001792 (Russia); Tax ID No. 8602190258 (Russia); For more information, please reference the following link: http://www.treasury.gov/resource-center/sanctions/OFAC-Enforcement/Pages/OFAC-Recent-Actions.aspx [UKRAINE-EO13662] [RUSSIA-EO14024] (Linked To: SURGUTNEFTEGAS).

Designated pursuant to section 1(a)(i) of E.O. 13662 for operating in the financial services sector of the Russian Federation economy.

Also designated pursuant to section 1(a)(i) of E.O. 14024 for operating or having operated in the financial services sector of the Russian Federation economy.

71. KALININGRADNEFTEPRODUKT OOO (a.k.a. KALININGRADNEFTEPRODUKT LLC; a.k.a. LIMITED LIABILITY COMPANY KALININGRADNEFTEPRODUCT; a.k.a. LLC KALININGRADNEFTEPRODUCT), 22-b Komsomolskaya Ulitsa, Central District, Kaliningrad, Russia; Email Address knp@baltnet.ru; Executive Order 13662 Directive Determination—Subject to Directive 4; Nationality of Registration Russia; Secondary sanctions risk: Ukraine-/Russia-Related Sanctions Regulations, 31 CFR 589.201 and/or 589.209; alt. Secondary sanctions risk: See Section 11 of Executive Order 14024.; Registration ID 1023900589240 (Russia); Tax ID No. 3900000136 (Russia); For more information, please reference the following link: http://www.treasury.gov/resource-center/sanctions/OFAC-Enforcement/Pages/OFAC-Recent-Actions.aspx [UKRAINE-EO13662] [RUSSIA-EO14024] (Linked To: SURGUTNEFTEGAS).

Designated pursuant to section 1(a)(i) of E.O. 13662 for operating in the energy sector of the Russian Federation economy.

Also designated pursuant to section 1(a)(i) of E.O. 14024 for operating or having operated in the energy sector of the Russian Federation economy.

72. KANGEN MARITIME CORPORATION, 1st Floor, Dekk House, Zippora Street, Providence Industrial Estate, Port Victoria, Mahe, Seychelles; Secondary sanctions risk: Ukraine-/Russia-Related Sanctions Regulations, 31 CFR 589.201 and/or 589.209; alt. Secondary sanctions risk: See Section 11 of Executive Order 14024.; Identification Number IMO 6466051 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

73. KAT DENNINGS LIMITED, Hong Kong, China; Secondary sanctions risk: See Section 11 of Executive Order 14024.; alt. Secondary sanctions risk: Ukraine-/Russia-Related Sanctions Regulations, 31 CFR 589.201 and/or 589.209; Organization Established Date 27 May 2022; Company Number 3157024 (Hong Kong); Business Registration Number 74087153 (Hong Kong) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

74. KINEF OOO (a.k.a. KINEF; a.k.a. LIMITED LIABILITY COMPANY PRODUCTION ASSOCIATION KIRISHINEFTEORGSINTEZ; a.k.a. LLC KINEF), d. 1 Shosse Entuziastov, Kirishi, Leningradskaya Oblast 187110, Russia; website http://www.kinef.ru; Email Address kinef@kinef.ru; Executive Order 13662 Directive Determination—Subject to Directive 4; Nationality of Registration Russia; Secondary sanctions risk: Ukraine-/Russia-Related Sanctions Regulations, 31 CFR 589.201 and/or 589.209; alt. Secondary sanctions risk: See Section 11 of Executive Order 14024.; Registration ID 1024701478735 (Russia); Tax ID No. 4708007089 (Russia); For more information, please reference the following link: http://www.treasury.gov/resource-center/sanctions/OFAC-Enforcement/Pages/OFAC-Recent-Actions.aspx [UKRAINE-EO13662] [RUSSIA-EO14024] (Linked To: SURGUTNEFTEGAS).

Designated pursuant to section 1(a)(i) of E.O. 13662 for operating in the energy sector of the Russian Federation economy.

Also designated pursuant to section 1(a)(i) of E.O. 14024 for operating or having operated in the energy sector of the Russian Federation economy.

75. KIRISHIAVTOSERVIS OOO (a.k.a. LIMITED LIABILITY COMPANY KIRISHIAVTOSERVIS; a.k.a. LLC KIRISHIAVTOSERVIS), Lit A, 12 Smolenskaya Ulitsa, St. Petersburg 196084, Russia; website www.kirishiavtoservis.ru; Executive Order 13662 Directive Determination—Subject to Directive 4; Nationality of Registration Russia; Secondary sanctions risk: Ukraine-/Russia-Related Sanctions Regulations, 31 CFR 589.201 and/or 589.209; alt. Secondary sanctions risk: See Section 11 of Executive Order 14024.; Registration ID 1057807804064 (Russia); Tax ID No. 7840016802 (Russia); For more information, please reference the following link: http://www.treasury.gov/resource-center/sanctions/OFAC-Enforcement/Pages/OFAC-Recent-Actions.aspx [UKRAINE-EO13662] [RUSSIA-EO14024] (Linked To: SURGUTNEFTEGAS).

Designated pursuant to section 1(a)(i) of E.O. 13662 for operating in the energy sector of the Russian Federation economy.

Also designated pursuant to section 1(a)(i) of E.O. 14024 for operating or having operated in the energy sector of the Russian Federation economy.

76. KUPA LINES INCORPORATED, Trust Company Complex, Ajeltake Road, Majuro, Ajeltake Island MH96960, Marshall Islands; Secondary sanctions risk: See Section 11 of Executive Order 14024.; alt. Secondary sanctions risk: Ukraine-/Russia-Related Sanctions Regulations, 31 CFR 589.201 and/or 589.209; Identification Number IMO 6315113 [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

77. LAGOSMARINE LIMITED, Andrea Araoyzou 2, Limassol 4150, Cyprus; Secondary sanctions risk: Ukraine-/Russia-Related Sanctions Regulations, 31 CFR 589.201 and/or 589.209; alt. Secondary sanctions risk: See Section 11 of Executive Order 14024.; Organization Established Date 09 Oct 2019; Registration Number C402876 (Cyprus) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

78. LATHYRUS SHIPPING COMPANY, 80 Broad Street, Monrovia, Liberia; Secondary sanctions risk: See Section 11 of Executive Order 14024.; alt. Secondary sanctions risk: Ukraine-/Russia-Related Sanctions Regulations, 31 CFR 589.201 and/or 589.209; Organization Established Date 2024; Identification Number IMO 6498685; Registration Number C-126303 (Liberia) [UKRAINE-EO13662] [RUSSIA-EO14024] (Linked To: HALAVINS, Aleksejs).

Designated pursuant to section 1(a)(iii) of E.O. 13662 for being owned or controlled by, or having acted or purported to act for or on behalf of, directly or indirectly, ALEKSEJS HALAVINS, a person whose property and interests in property are blocked pursuant to E.O. 13662.

Also designated pursuant to section 1(a)(vii) of E.O. 14024 for being owned or controlled by, or having acted or purported to act for or on behalf of, directly or indirectly, ALEKSEJS HALAVINS, a person whose property and interests in property are blocked pursuant to E.O. 14024.

79. LENGIPRONEFTEKHIM OOO (a.k.a. INSTITUT PO PROEKTIROVANIYU PREDPRIYATY NEFTEPERERABATYVAYUSCHEY I NEFTEKHIMICHESKOY PROMYSHLENNOSTI, LIMITED LIABILITY COMPANY; a.k.a. LIMITED LIABILITY COMPANY DESIGN AND ENGINEERING INSTITUTE FOR OIL REFINING AND PETROCHEMICAL ENTERPRISES; a.k.a. LIMITED LIABILITY COMPANY OIL REFINING AND PETROCHEMICAL FACILITIES DESIGN INSTITUTE; a.k.a. LLC LENGIPRONEFTEKHIM), D. 94, Obvodnogo Kanala, nab, St. Petersburg 196084, Russia; Email Address lgnch@lgnch.spb.ru; Executive Order 13662 Directive Determination—Subject to Directive 4; Nationality of Registration Russia; Secondary sanctions risk: Ukraine-/Russia-Related Sanctions Regulations, 31 CFR 589.201 and/or 589.209; alt. Secondary sanctions risk: See Section 11 of Executive Order 14024.; Registration ID 1057803105755 (Russia); Tax ID No. 7810327462 (Russia); For more information, please reference the following link: http://www.treasury.gov/resource-center/sanctions/OFAC-Enforcement/Pages/OFAC-Recent-Actions.aspx [UKRAINE-EO13662] [RUSSIA-EO14024] (Linked To: SURGUTNEFTEGAS).

Designated pursuant to section 1(a)(i) of E.O. 13662 for operating in the energy sector of the Russian Federation economy.

Also designated pursuant to section 1(a)(i) of E.O. 14024 for operating or having operated in the energy sector of the Russian Federation economy.

80. LENINOGORSKREMSERVICE LIMITED LIABILITY COMPANY (a.k.a. “LRS LLC”), Ul. Chaikovskogo D. 9A, K. 9/1, Leninogorsk 423250, Russia; Secondary sanctions risk: See Section 11 of Executive Order 14024.; alt. Secondary sanctions risk: Ukraine-/Russia-Related Sanctions Regulations, 31 CFR 589.201 and/or 589.209; Tax ID No. 1649015690 (Russia); Registration Number 1071689002923 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

81. LEPUS SAI LIMITED, Unit 13, 12/F, One Vita Supreme, Tuen Mun, Hong Kong, China; Secondary sanctions risk: See Section 11 of Executive Order 14024.; alt. Secondary sanctions risk: Ukraine-/Russia-Related Sanctions Regulations, 31 CFR 589.201 and/or 589.209; Company Number 3237451 (Hong Kong); Business Registration Number 74898491 (Hong Kong) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

82. LIMITED LIABILITY COMPANY CATKONEFT (a.k.a. KATKONEFT), Ul. Yantarnaya D. 8, Kogalym 628481, Russia; Secondary sanctions risk: See Section 11 of Executive Order 14024.; alt. Secondary sanctions risk: Ukraine-/Russia-Related Sanctions Regulations, 31 CFR 589.201 and/or 589.209; Tax ID No. 8608180009 (Russia); Registration Number 1028601441582 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

83. LIMITED LIABILITY COMPANY GAZPROMNEFT REGIONAL SALES, Per. Vilenskii D. 14, Lit. A, Office 203, Saint Petersburg 191014, Russia; Secondary sanctions risk: See Section 11 of Executive Order 14024.; alt. Secondary sanctions risk: Ukraine-/Russia-Related Sanctions Regulations, 31 CFR 589.201 and/or 589.209; Tax ID No. 4703105075 (Russia); Registration Number 1084703003384 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

84. LIMITED LIABILITY COMPANY NAFTAGAZ DRILLING (a.k.a. “LLC NG DRILLING”), Promuzel Pelei Panel 13, Noyabrsk 629800, Russia; Secondary sanctions risk: See Section 11 of Executive Order 14024.; alt. Secondary sanctions risk: Ukraine-/Russia-Related Sanctions Regulations, 31 CFR 589.201 and/or 589.209; Tax ID No. 8905053564 (Russia); Registration Number 1138905000090 (Russia) [UKRAINE-EO13662] [RUSSIA-EO14024].

Designated pursuant to section 1(a)(i) of E.O. 13662 for operating in the energy sector of the Russian Federation economy.

Also designated pursuant to section 1(a)(i) of E.O. 14024 for operating or having operated in the energy sector of the Russian Federation economy.

BILLING CODE 4810-AL-P

BILLING CODE 4810-AL-C

On December 27, 2024, OFAC also identified the following vessels as property in which a blocked person has an interest under the relevant sanctions authority listed below:

Vessels

1. AKADEMIK GUBKIN (a.k.a. ACADEMIC GUBKIN) (UBZX4) Crude Oil Tanker Russia flag; Secondary sanctions risk: See Section 11 of Executive Order 14024.; alt. Secondary sanctions risk: Ukraine-/Russia-Related Sanctions Regulations, 31 CFR 589.201 and/or 589.209; Vessel Registration Identification IMO 9842190; MMSI 273616040 (vessel) [UKRAINE-EO13662] [RUSSIA-EO14024] (Linked To: JOINT STOCK COMPANY ROSNEFTEFLOT).

Identified as property in which JOINT STOCK COMPANY ROSNEFTEFLOT, a person whose property and interests in property are blocked pursuant to E.O. 13662, has an interest.

Identified as property in which JOINT STOCK COMPANY ROSNEFTEFLOT, a person whose property and interests in property are blocked pursuant to E.O. 14024, has an interest.

2. ALEKSEY CHIRIKOV (UBXJ4) Supply Vessel Russia flag; Secondary sanctions risk: See Section 11 of Executive Order 14024.; alt. Secondary sanctions risk: Ukraine-/Russia-Related Sanctions Regulations, 31 CFR 589.201 and/or 589.209; Vessel Registration Identification IMO 9613551; MMSI 273369290 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

3. ALEXANDER BEGGROV Products Tanker Russia flag; Secondary sanctions risk: See Section 11 of Executive Order 14024.; alt. Secondary sanctions risk: Ukraine-/Russia-Related Sanctions Regulations, 31 CFR 589.201 and/or 589.209; Vessel Registration Identification IMO 9876373 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

4. ALEXEY BOGOLYUBOV Products Tanker Russia flag; Secondary sanctions risk: See Section 11 of Executive Order 14024.; alt. Secondary sanctions risk: Ukraine-/Russia-Related Sanctions Regulations, 31 CFR 589.201 and/or 589.209; Vessel Registration Identification IMO 9876361 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

5. ALISSA (TRAP2) Crude Oil Tanker Gabon flag; Secondary sanctions risk: See Section 11 of Executive Order 14024.; alt. Secondary sanctions risk: Ukraine-/Russia-Related Sanctions Regulations, 31 CFR 589.201 and/or 589.209; Vessel Registration Identification IMO 9273052; MMSI 626248000 (vessel) [UKRAINE-EO13662] [RUSSIA-EO14024] (Linked To: DOXA SHIPPING LINE INC).

Identified as property in which DOXA SHIPPING LINE INC, a person whose property and interests in property are blocked pursuant to E.O. 13662, has an interest.

Identified as property in which DOXA SHIPPING LINE INC, a person whose property and interests in property are blocked pursuant to E.O. 14024, has an interest.

6. AMBER 6 (3E2141) Crude Oil Tanker Panama flag; Secondary sanctions risk: See Section 11 of Executive Order 14024.; alt. Secondary sanctions risk: Ukraine-/Russia-Related Sanctions Regulations, 31 CFR 589.201 and/or 589.209; Vessel Registration Identification IMO 9235713; MMSI 352001387 (vessel) [UKRAINE-EO13662] [RUSSIA-EO14024] (Linked To: SUNNE CO LIMITED).

Identified as property in which SUNNE CO LIMITED, a person whose property and interests in property are blocked pursuant to E.O. 13662, has an interest.

Identified as property in which SUNNE CO LIMITED, a person whose property and interests in property are blocked pursuant to E.O. 14024, has an interest.

7. APUS (3E2712) Crude Oil Tanker Panama flag; Secondary sanctions risk: See Section 11 of Executive Order 14024.; alt. Secondary sanctions risk: Ukraine-/Russia-Related Sanctions Regulations, 31 CFR 589.201 and/or 589.209; Vessel Registration Identification IMO 9280885; MMSI 352001692 (vessel) [UKRAINE-EO13662] [RUSSIA-EO14024] (Linked To: SUNNE CO LIMITED).

Identified as property in which SUNNE CO LIMITED, a person whose property and interests in property are blocked pursuant to E.O. 13662, has an interest.

Identified as property in which SUNNE CO LIMITED, a person whose property and interests in property are blocked pursuant to E.O. 14024, has an interest.

8. AQUATICA (3E6678) Crude Oil Tanker Panama flag; Secondary sanctions risk: See Section 11 of Executive Order 14024.; alt. Secondary sanctions risk: Ukraine-/Russia-Related Sanctions Regulations, 31 CFR 589.201 and/or 589.209; Vessel Registration Identification IMO 9299769; MMSI 352004367 (vessel) [UKRAINE-EO13662] [RUSSIA-EO14024] (Linked To: CELESTIAL STAR CORPORATION).

Identified as property in which CELESTIAL STAR CORPORATION, a person whose property and interests in property are blocked pursuant to E.O. 13662, has an interest.

Identified as property in which CELESTIAL STAR CORPORATION, a person whose property and interests in property are blocked pursuant to E.O. 14024, has an interest.

9. AQUILA II (3E2714) Crude Oil Tanker Panama flag; Secondary sanctions risk: See Section 11 of Executive Order 14024.; alt. Secondary sanctions risk: Ukraine-/Russia-Related Sanctions Regulations, 31 CFR 589.201 and/or 589.209; Vessel Registration Identification IMO 9281152; MMSI 352001694 (vessel) [UKRAINE-EO13662] [RUSSIA-EO14024] (Linked To: SUNNE CO LIMITED).

Identified as property in which SUNNE CO LIMITED, a person whose property and interests in property are blocked pursuant to E.O. 13662, has an interest.

Identified as property in which SUNNE CO LIMITED, a person whose property and interests in property are blocked pursuant to E.O. 14024, has an interest.

10. ARIA (8P2495) Chemical/Oil Tanker Barbados flag; Secondary sanctions risk: See Section 11 of Executive Order 14024.; alt. Secondary sanctions risk: Ukraine-/Russia-Related Sanctions Regulations, 31 CFR 589.201 and/or 589.209; Vessel Year of Build 2009; Vessel Registration Identification IMO 9397559; MMSI 314987000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

11. ARIADNE (8P2446) Chemical/Oil Tanker Barbados flag; Secondary sanctions risk: See Section 11 of Executive Order 14024.; alt. Secondary sanctions risk: Ukraine-/Russia-Related Sanctions Regulations, 31 CFR 589.201 and/or 589.209; Vessel Year of Build 2008; Vessel Registration Identification IMO 9397547; MMSI 314948000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

12. ARJUN (3E5088) Crude Oil Tanker Panama flag; Secondary sanctions risk: See Section 11 of Executive Order 14024.; alt. Secondary sanctions risk: Ukraine-/Russia-Related Sanctions Regulations, 31 CFR 589.201 and/or 589.209; Vessel Registration Identification IMO 9297357; MMSI 352002801 (vessel) [UKRAINE-EO13662] [RUSSIA-EO14024] (Linked To: KANGEN MARITIME CORPORATION).

Identified as property in which KANGEN MARITIME CORPORATION, a person whose property and interests in property are blocked pursuant to E.O. 13662, has an interest.

Identified as property in which KANGEN MARITIME CORPORATION, a person whose property and interests in property are blocked pursuant to E.O. 14024, has an interest.

13. ASTRA (XVJT7) Chemical/Oil Tanker Vietnam flag; Secondary sanctions risk: See Section 11 of Executive Order 14024.; alt. Secondary sanctions risk: Ukraine-/Russia-Related Sanctions Regulations, 31 CFR 589.201 and/or 589.209; Vessel Registration Identification IMO 9273387; MMSI 574005470 (vessel) [UKRAINE-EO13662] [RUSSIA-EO14024] (Linked To: SAO VIET PETROL TRANSPORTATION COMPANY LIMITED).

Identified as property in which SAO VIET PETROL TRANSPORTATION COMPANY LIMITED, a person whose property and interests in property are blocked pursuant to E.O. 13662, has an interest.

Identified as property in which SAO VIET PETROL TRANSPORTATION COMPANY LIMITED, a person whose property and interests in property are blocked pursuant to E.O. 14024, has an interest.

14. ATLAS (8P2259) Products Tanker Barbados flag; Secondary sanctions risk: See Section 11 of Executive Order 14024.; alt. Secondary sanctions risk: Ukraine-/Russia-Related Sanctions Regulations, 31 CFR 589.201 and/or 589.209; Vessel Registration Identification IMO 9413573; MMSI 314895000 (vessel) [UKRAINE-EO13662] [RUSSIA-EO14024] (Linked To: STREAM SHIP MANAGEMENT FZCO).

Identified as property in which STREAM SHIP MANAGEMENT FZCO, a person whose property and interests in property are blocked pursuant to E.O. 13662, has an interest.

Identified as property in which STREAM SHIP MANAGEMENT FZCO, a person whose property and interests in property are blocked pursuant to E.O. 14024, has an interest.

15. ATTICA (TRAT2) Crude Oil Tanker Gabon flag; Secondary sanctions risk: See Section 11 of Executive Order 14024.; alt. Secondary sanctions risk: Ukraine-/Russia-Related Sanctions Regulations, 31 CFR 589.201 and/or 589.209; Vessel Registration Identification IMO 9436941; MMSI 626278000 (vessel) [UKRAINE-EO13662] [RUSSIA-EO14024] (Linked To: ELGON MARITIME CORPORATION).

Identified as property in which ELGON MARITIME CORPORATION, a person whose property and interests in property are blocked pursuant to E.O. 13662, has an interest.

Identified as property in which ELGON MARITIME CORPORATION, a person whose property and interests in property are blocked pursuant to E.O. 14024, has an interest.

16. AULIS (3E5853) Crude Oil Tanker Panama flag; Secondary sanctions risk: See Section 11 of Executive Order 14024.; alt. Secondary sanctions risk: Ukraine-/Russia-Related Sanctions Regulations, 31 CFR 589.201 and/or 589.209; Vessel Registration Identification IMO 9233765; MMSI 352003752 (vessel) [UKRAINE-EO13662] [RUSSIA-EO14024] (Linked To: NOBLEFU COMPANY LIMITED).

Identified as property in which NOBLEFU COMPANY LIMITED, a person whose property and interests in property are blocked pursuant to E.O. 13662, has an interest.

Identified as property in which NOBLEFU COMPANY LIMITED, a person whose property and interests in property are blocked pursuant to E.O. 14024, has an interest.

17. BOLERO (8P2492) Crude Oil Tanker Barbados flag; Secondary sanctions risk: See Section 11 of Executive Order 14024.; alt. Secondary sanctions risk: Ukraine-/Russia-Related Sanctions Regulations, 31 CFR 589.201 and/or 589.209; Vessel Registration Identification IMO 9412335; MMSI 314984000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

18. BORAY (UBGX6) Chemical/Oil Tanker Russia flag; Secondary sanctions risk: See Section 11 of Executive Order 14024.; alt. Secondary sanctions risk: Ukraine-/Russia-Related Sanctions Regulations, 31 CFR 589.201 and/or 589.209; Vessel Registration Identification IMO 9198783; MMSI 273610900 (vessel) [UKRAINE-EO13662] [RUSSIA-EO14024] (Linked To: SUNOR ILLC).

Identified as property in which SUNOR ILLC, a person whose property and interests in property are blocked pursuant to E.O. 13662, has an interest.

Identified as property in which SUNOR ILLC, a person whose property and interests in property are blocked pursuant to E.O. 14024, has an interest.

19. BOREY G (3E2481) Products Tanker Panama flag; Secondary sanctions risk: See Section 11 of Executive Order 14024.; alt. Secondary sanctions risk: Ukraine-/Russia-Related Sanctions Regulations, 31 CFR 589.201 and/or 589.209; Vessel Registration Identification IMO 9199127; MMSI 352001461 (vessel) [UKRAINE-EO13662] [RUSSIA-EO14024] (Linked To: LUSEIA MARINE SERVICES CO LTD).

Identified as property in which LUSEIA MARINE SERVICES CO LTD, a person whose property and interests in property are blocked pursuant to E.O. 13662, has an interest.

Identified as property in which LUSEIA MARINE SERVICES CO LTD, a person whose property and interests in property are blocked pursuant to E.O. 14024, has an interest.

20. BUK (UBOE3) Tug Russia flag; Secondary sanctions risk: See Section 11 of Executive Order 14024.; alt. Secondary sanctions risk: Ukraine-/Russia-Related Sanctions Regulations, 31 CFR 589.201 and/or 589.209; Vessel Registration Identification IMO 9201994; MMSI 273318480 (vessel) [UKRAINE-EO13662] [RUSSIA-EO14024] (Linked To: RPK NORD LIMITED LIABILITY COMPANY).

Identified as property in which RPK NORD LIMITED LIABILITY COMPANY, a person whose property and interests in property are blocked pursuant to E.O. 13662, has an interest.

Identified as property in which RPK NORD LIMITED LIABILITY COMPANY, a person whose property and interests in property are blocked pursuant to E.O. 14024, has an interest.

21. CALLISTO (8P2438) Crude Oil Tanker Barbados flag; Secondary sanctions risk: See Section 11 of Executive Order 14024.; alt. Secondary sanctions risk: Ukraine-/Russia-Related Sanctions Regulations, 31 CFR 589.201 and/or 589.209; Vessel Registration Identification IMO 9299692; MMSI 314942000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

22. CANGJIE (E5U5064) Crude Oil Tanker Cook Islands flag; Secondary sanctions risk: See Section 11 of Executive Order 14024.; alt. Secondary sanctions risk: Ukraine-/Russia-Related Sanctions Regulations, 31 CFR 589.201 and/or 589.209; Vessel Registration Identification IMO 9299680; MMSI 518999083 (vessel) [UKRAINE-EO13662] [RUSSIA-EO14024] (Linked To: KUPA LINES INCORPORATED).

Identified as property in which KUPA LINES INCORPORATED, a person whose property and interests in property are blocked pursuant to E.O. 13662, has an interest.

Identified as property in which KUPA LINES INCORPORATED, a person whose property and interests in property are blocked pursuant to E.O. 14024, has an interest.

23. CANKIRI (3E4108) Crude Oil Tanker Panama flag; Secondary sanctions risk: See Section 11 of Executive Order 14024.; alt. Secondary sanctions risk: Ukraine-/Russia-Related Sanctions Regulations, 31 CFR 589.201 and/or 589.209; Vessel Registration Identification IMO 9411331; MMSI 352002456 (vessel) [UKRAINE-EO13662] [RUSSIA-EO14024] (Linked To: PROMINENT SHIPMANAGEMENT LIMITED).

Identified as property in which PROMINENT SHIPMANAGEMENT LIMITED, a person whose property and interests in property are blocked pursuant to E.O. 13662, has an interest.

Identified as property in which PROMINENT SHIPMANAGEMENT LIMITED, a person whose property and interests in property are blocked pursuant to E.O. 14024, has an interest.

24. CAPELLA (8P2447) Crude Oil Tanker Barbados flag; Secondary sanctions risk: See Section 11 of Executive Order 14024.; alt. Secondary sanctions risk: Ukraine-/Russia-Related Sanctions Regulations, 31 CFR 589.201 and/or 589.209; Vessel Registration Identification IMO 9341079; MMSI 314949000 (vessel) [UKRAINE-EO13662] [RUSSIA-EO14024] (Linked To: STREAM SHIP MANAGEMENT FZCO).

Identified as property in which STREAM SHIP MANAGEMENT FZCO, a person whose property and interests in property are blocked pursuant to E.O. 13662, has an interest.

Identified as property in which STREAM SHIP MANAGEMENT FZCO, a person whose property and interests in property are blocked pursuant to E.O. 14024, has an interest.

25. CAPTAIN KOSTICHEV (3E4142) Crude Oil Tanker Panama flag; Secondary sanctions risk: See Section 11 of Executive Order 14024.; alt. Secondary sanctions risk: Ukraine-/Russia-Related Sanctions Regulations, 31 CFR 589.201 and/or 589.209; Vessel Registration Identification IMO 9301392; MMSI 352002205 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest..

26. CARL (8P2479) Crude Oil Tanker Barbados flag; Secondary sanctions risk: See Section 11 of Executive Order 14024.; alt. Secondary sanctions risk: Ukraine-/Russia-Related Sanctions Regulations, 31 CFR 589.201 and/or 589.209; Vessel Registration Identification IMO 9288851; MMSI 314975000 (vessel) [UKRAINE-EO13662] [RUSSIA-EO14024] (Linked To: CUBE VENTURES SHIPPING SA).

Identified as property in which CUBE VENTURES SHIPPING SA, a person whose property and interests in property are blocked pursuant to E.O. 13662, has an interest.

Identified as property in which CUBE VENTURES SHIPPING SA, a person whose property and interests in property are blocked pursuant to E.O. 14024, has an interest.

27. CASSIOPEIA (8P2466) Crude Oil Tanker Barbados flag; Secondary sanctions risk: See Section 11 of Executive Order 14024.; alt. Secondary sanctions risk: Ukraine-/Russia-Related Sanctions Regulations, 31 CFR 589.201 and/or 589.209; Vessel Registration Identification IMO 9341081; MMSI 314964000 (vessel) [UKRAINE-EO13662] [RUSSIA-EO14024] (Linked To: STREAM SHIP MANAGEMENT FZCO).

Identified as property in which STREAM SHIP MANAGEMENT FZCO, a person whose property and interests in property are blocked pursuant to E.O. 13662, has an interest.

Identified as property in which STREAM SHIP MANAGEMENT FZCO, a person whose property and interests in property are blocked pursuant to E.O. 14024, has an interest.

28. CEPHEUS (3E3724) Crude Oil Tanker Panama flag; Secondary sanctions risk: See Section 11 of Executive Order 14024.; alt. Secondary sanctions risk: Ukraine-/Russia-Related Sanctions Regulations, 31 CFR 589.201 and/or 589.209; Vessel Registration Identification IMO 9299721; MMSI 352001911 (vessel) [UKRAINE-EO13662] [RUSSIA-EO14024] (Linked To: COLUMBA LIMITED).

Identified as property in which COLUMBA LIMITED, a person whose property and interests in property are blocked pursuant to E.O. 13662, has an interest.

Identified as property in which COLUMBA LIMITED, a person whose property and interests in property are blocked pursuant to E.O. 14024, has an interest.

29. CHRISTOPHE DE MARGERIE (8E4097) LNG Carrier Panama flag; Secondary sanctions risk: See Section 11 of Executive Order 14024.; alt. Secondary sanctions risk: Ukraine-/Russia-Related Sanctions Regulations, 31 CFR 589.201 and/or 589.209; Vessel Registration Identification IMO 9737187; MMSI 352002442 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

30. CLIO (3E2767) Crude Oil Tanker Panama flag; Secondary sanctions risk: See Section 11 of Executive Order 14024.; alt. Secondary sanctions risk: Ukraine-/Russia-Related Sanctions Regulations, 31 CFR 589.201 and/or 589.209; Vessel Registration Identification IMO 9238052; MMSI 352001855 (vessel) [UKRAINE-EO13662] [RUSSIA-EO14024] (Linked To: HONG KONG YONGYE SHIPPING LIMITED).

Identified as property in which HONG KONG YONGYE SHIPPING LIMITED, a person whose property and interests in property are blocked pursuant to E.O. 13662, has an interest.

Identified as property in which HONG KONG YONGYE SHIPPING LIMITED, a person whose property and interests in property are blocked pursuant to E.O. 14024, has an interest.

31. CORUM (3E2362) Products Tanker Panama flag; Secondary sanctions risk: See Section 11 of Executive Order 14024.; alt. Secondary sanctions risk: Ukraine-/Russia-Related Sanctions Regulations, 31 CFR 589.201 and/or 589.209; Vessel Registration Identification IMO 9544281; MMSI 352002588 (vessel) [UKRAINE-EO13662] [RUSSIA-EO14024] (Linked To: PROMINENT SHIPMANAGEMENT LIMITED).

Identified as property in which PROMINENT SHIPMANAGEMENT LIMITED, a person whose property and interests in property are blocked pursuant to E.O. 13662, has an interest.

Identified as property in which PROMINENT SHIPMANAGEMENT LIMITED, a person whose property and interests in property are blocked pursuant to E.O. 14024, has an interest.

32. CRIUS (3E3759) Crude Oil Tanker Panama flag; Secondary sanctions risk: See Section 11 of Executive Order 14024.; alt. Secondary sanctions risk: Ukraine-/Russia-Related Sanctions Regulations, 31 CFR 589.201 and/or 589.209; Vessel Registration Identification IMO 9251274; MMSI 352002070 (vessel) [UKRAINE-EO13662] [RUSSIA-EO14024] (Linked To: CRIUS LIMITED).

Identified as property in which CRIUS LIMITED, a person whose property and interests in property are blocked pursuant to E.O. 13662, has an interest.

Identified as property in which CRIUS LIMITED, a person whose property and interests in property are blocked pursuant to E.O. 14024, has an interest.

33. CUP (V2Y16) Crude Oil Tanker Antigua & Barbuda flag; Secondary sanctions risk: See Section 11 of Executive Order 14024.; alt. Secondary sanctions risk: Ukraine-/Russia-Related Sanctions Regulations, 31 CFR 589.201 and/or 589.209; Vessel Registration Identification IMO 9271327; MMSI 304768000 (vessel) [UKRAINE-EO13662] [RUSSIA-EO14024] (Linked To: BLUEJOURNEY SHIPPING LIMITED).

Identified as property in which BLUEJOURNEY SHIPPING LIMITED, a person whose property and interests in property are blocked pursuant to E.O. 13662, has an interest.

Identified as property in which BLUEJOURNEY SHIPPING LIMITED, a person whose property and interests in property are blocked pursuant to E.O. 14024, has an interest.

34. DEYNA (3E5822) Crude Oil Tanker Panama flag; Secondary sanctions risk: See Section 11 of Executive Order 14024.; alt. Secondary sanctions risk: Ukraine-/Russia-Related Sanctions Regulations, 31 CFR 589.201 and/or 589.209; Vessel Registration Identification IMO 9299903; MMSI 352003718 (vessel) [UKRAINE-EO13662] [RUSSIA-EO14024] (Linked To: SINO SHIP MANAGEMENT COMPANY LIMITED).

Identified as property in which SINO SHIP MANAGEMENT COMPANY LIMITED, a person whose property and interests in property are blocked pursuant to E.O. 13662, has an interest.

Identified as property in which SINO SHIP MANAGEMENT COMPANY LIMITED, a person whose property and interests in property are blocked pursuant to E.O. 14024, has an interest.

35. DIAMOND (8P2444) Chemical/Oil Tanker Barbados flag; Secondary sanctions risk: See Section 11 of Executive Order 14024.; alt. Secondary sanctions risk: Ukraine-/Russia-Related Sanctions Regulations, 31 CFR 589.201 and/or 589.209; Vessel Year of Build 2009; Vessel Registration Identification IMO 9385142; MMSI 314946000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

36. DIGNITY (UBIZ6) Crude Oil Tanker Russia flag; Secondary sanctions risk: See Section 11 of Executive Order 14024.; alt. Secondary sanctions risk: Ukraine-/Russia-Related Sanctions Regulations, 31 CFR 589.201 and/or 589.209; Vessel Registration Identification IMO 9283241; MMSI 273253500 (vessel) [UKRAINE-EO13662] [RUSSIA-EO14024] (Linked To: ARGO TANKER GROUP LLC).

Identified as property in which ARGO TANKER GROUP LLC, a person whose property and interests in property are blocked pursuant to E.O. 13662, has an interest.

Identified as property in which ARGO TANKER GROUP LLC, a person whose property and interests in property are blocked pursuant to E.O. 14024, has an interest.

37. DMITRY MENDELEEV (UBJV8) Bunkering Tanker Russia flag; Secondary sanctions risk: See Section 11 of Executive Order 14024.; alt. Secondary sanctions risk: Ukraine-/Russia-Related Sanctions Regulations, 31 CFR 589.201 and/or 589.209; Vessel Registration Identification IMO 9888182; MMSI 273296810 (vessel) [UKRAINE-EO13662] [RUSSIA-EO14024] (Linked To: GAZPROMNEFT MARINE BUNKER LIMITED LIABILITY COMPANY).

Identified as property in which GAZPROMNEFT MARINE BUNKER LIMITED LIABILITY COMPANY, a person whose property and interests in property are blocked pursuant to E.O. 13662, has an interest.

Identified as property in which GAZPROMNEFT MARINE BUNKER LIMITED LIABILITY COMPANY, a person whose property and interests in property are blocked pursuant to E.O. 14024, has an interest.

38. DOBRYNYA (UBOO) Tug Russia flag; Secondary sanctions risk: See Section 11 of Executive Order 14024.; alt. Secondary sanctions risk: Ukraine-/Russia-Related Sanctions Regulations, 31 CFR 589.201 and/or 589.209; Vessel Registration Identification IMO 8730077; MMSI 273449240 (vessel) [UKRAINE-EO13662] [RUSSIA-EO14024] (Linked To: JOINT STOCK COMPANY ROSNEFTEFLOT).

Identified as property in which JOINT STOCK COMPANY ROSNEFTEFLOT, a person whose property and interests in property are blocked pursuant to E.O. 13662, has an interest.

Identified as property in which JOINT STOCK COMPANY ROSNEFTEFLOT, a person whose property and interests in property are blocked pursuant to E.O. 14024, has an interest.

39. ELEGANCE (3E5080) Crude Oil Tanker Panama flag; Secondary sanctions risk: See Section 11 of Executive Order 14024.; alt. Secondary sanctions risk: Ukraine-/Russia-Related Sanctions Regulations, 31 CFR 589.201 and/or 589.209; Vessel Registration Identification IMO 9383950; MMSI 352002791 (vessel) [UKRAINE-EO13662] [RUSSIA-EO14024] (Linked To: PROMINENT SHIPMANAGEMENT LIMITED).

Identified as property in which PROMINENT SHIPMANAGEMENT LIMITED, a person whose property and interests in property are blocked pursuant to E.O. 13662, has an interest.

Identified as property in which PROMINENT SHIPMANAGEMENT LIMITED, a person whose property and interests in property are blocked pursuant to E.O. 14024, has an interest.

40. EMILY S (3E2473) Crude Oil Tanker Panama flag; Secondary sanctions risk: See Section 11 of Executive Order 14024.; alt. Secondary sanctions risk: Ukraine-/Russia-Related Sanctions Regulations, 31 CFR 589.201 and/or 589.209; Vessel Registration Identification IMO 9321847; MMSI 352001452 (vessel) [UKRAINE-EO13662] [RUSSIA-EO14024] (Linked To: SUNNE CO LIMITED).

Identified as property in which SUNNE CO LIMITED, a person whose property and interests in property are blocked pursuant to E.O. 13662, has an interest.

Identified as property in which SUNNE CO LIMITED, a person whose property and interests in property are blocked pursuant to E.O. 14024, has an interest.

41. FEDOR USHAKOV (UBAQ3) Supply Vessel Russia flag; Secondary sanctions risk: See Section 11 of Executive Order 14024.; alt. Secondary sanctions risk: Ukraine-/Russia-Related Sanctions Regulations, 31 CFR 589.201 and/or 589.209; Vessel Registration Identification IMO 9753739; MMSI 273396260 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

42. FJORD SEAL (3E3737) Crude Oil Tanker Panama flag; Secondary sanctions risk: See Section 11 of Executive Order 14024.; alt. Secondary sanctions risk: Ukraine-/Russia-Related Sanctions Regulations, 31 CFR 589.201 and/or 589.209; Vessel Registration Identification IMO 9513139; MMSI 352001925 (vessel) [UKRAINE-EO13662] [RUSSIA-EO14024] (Linked To: PROMINENT SHIPMANAGEMENT LIMITED).

Identified as property in which PROMINENT SHIPMANAGEMENT LIMITED, a person whose property and interests in property are blocked pursuant to E.O. 13662, has an interest.

Identified as property in which PROMINENT SHIPMANAGEMENT LIMITED, a person whose property and interests in property are blocked pursuant to E.O. 14024, has an interest.

43. FREDA (3E5145) Crude Oil Tanker Panama flag; Secondary sanctions risk: See Section 11 of Executive Order 14024.; alt. Secondary sanctions risk: Ukraine-/Russia-Related Sanctions Regulations, 31 CFR 589.201 and/or 589.209; Vessel Registration Identification IMO 9402469; MMSI 352003485 (vessel) [UKRAINE-EO13662] [RUSSIA-EO14024] (Linked To: HERA GAM LIMITED).

Identified as property in which HERA GAM LIMITED, a person whose property and interests in property are blocked pursuant to E.O. 13662, has an interest.

Identified as property in which HERA GAM LIMITED, a person whose property and interests in property are blocked pursuant to E.O. 14024, has an interest.

44. GALAXY (8P2373) Crude Oil Tanker Barbados flag; Secondary sanctions risk: See Section 11 of Executive Order 14024.; alt. Secondary sanctions risk: Ukraine-/Russia-Related Sanctions Regulations, 31 CFR 589.201 and/or 589.209; Vessel Registration Identification IMO 9826902; MMSI 314905000 (vessel) [UKRAINE-EO13662] [RUSSIA-EO14024] (Linked To: STREAM SHIP MANAGEMENT FZCO).

Identified as property in which STREAM SHIP MANAGEMENT FZCO, a person whose property and interests in property are blocked pursuant to E.O. 13662, has an interest.

Identified as property in which STREAM SHIP MANAGEMENT FZCO, a person whose property and interests in property are blocked pursuant to E.O. 14024, has an interest.

45. GAZPROMNEFT NORDWEST (UBAI2) Chemical/Products Tanker Russia flag; Secondary sanctions risk: See Section 11 of Executive Order 14024.; alt. Secondary sanctions risk: Ukraine-/Russia-Related Sanctions Regulations, 31 CFR 589.201 and/or 589.209; Vessel Registration Identification IMO 9590137; MMSI 273355640 (vessel) [UKRAINE-EO13662] [RUSSIA-EO14024] (Linked To: GAZPROMNEFT MARINE BUNKER LIMITED LIABILITY COMPANY).

Identified as property in which GAZPROMNEFT MARINE BUNKER LIMITED LIABILITY COMPANY, a person whose property and interests in property are blocked pursuant to E.O. 13662, has an interest.

Identified as property in which GAZPROMNEFT MARINE BUNKER LIMITED LIABILITY COMPANY, a person whose property and interests in property are blocked pursuant to E.O. 14024, has an interest.

46. GAZPROMNEFT ZUID EAST (UCSK) Chemical/Oil Tanker Russia flag; Secondary sanctions risk: See Section 11 of Executive Order 14024.; alt. Secondary sanctions risk: Ukraine-/Russia-Related Sanctions Regulations, 31 CFR 589.201 and/or 589.209; Vessel Registration Identification IMO 9537109; MMSI 273353580 (vessel) [UKRAINE-EO13662] [RUSSIA-EO14024] (Linked To: GAZPROMNEFT MARINE BUNKER LIMITED LIABILITY COMPANY).

Identified as property in which GAZPROMNEFT MARINE BUNKER LIMITED LIABILITY COMPANY, a person whose property and interests in property are blocked pursuant to E.O. 13662, has an interest.

Identified as property in which GAZPROMNEFT MARINE BUNKER LIMITED LIABILITY COMPANY, a person whose property and interests in property are blocked pursuant to E.O. 14024, has an interest.

47. GENNADIY NEVELSKOY (UDFS) Supply Vessel Russia flag; Secondary sanctions risk: See Section 11 of Executive Order 14024.; alt. Secondary sanctions risk: Ukraine-/Russia-Related Sanctions Regulations, 31 CFR 589.201 and/or 589.209; Vessel Registration Identification IMO 9742120; MMSI 273396990 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

48. HEIDI A (3E2523) Crude Oil Tanker Panama flag; Secondary sanctions risk: See Section 11 of Executive Order 14024.; alt. Secondary sanctions risk: Ukraine-/Russia-Related Sanctions Regulations, 31 CFR 589.201 and/or 589.209; Vessel Registration Identification IMO 9321976; MMSI 352001510 (vessel) [UKRAINE-EO13662] [RUSSIA-EO14024] (Linked To: SUNNE CO LIMITED).

Identified as property in which SUNNE CO LIMITED, a person whose property and interests in property are blocked pursuant to E.O. 13662, has an interest.

Identified as property in which SUNNE CO LIMITED, a person whose property and interests in property are blocked pursuant to E.O. 14024, has an interest.

49. HENG TAI (3E5359) Crude Oil Tanker Panama flag; Secondary sanctions risk: See Section 11 of Executive Order 14024.; alt. Secondary sanctions risk: Ukraine-/Russia-Related Sanctions Regulations, 31 CFR 589.201 and/or 589.209; Vessel Registration Identification IMO 9419448; MMSI 352003963 (vessel) [UKRAINE-EO13662] [RUSSIA-EO14024] (Linked To: HENGTAI SHIPPING LIMITED).

Identified as property in which HENGTAI SHIPPING LIMITED, a person whose property and interests in property are blocked pursuant to E.O. 13662, has an interest.

Identified as property in which HENGTAI SHIPPING LIMITED, a person whose property and interests in property are blocked pursuant to E.O. 14024, has an interest.

50. HIMALAYAN (3E4651) Crude Oil Tanker Panama flag; Secondary sanctions risk: See Section 11 of Executive Order 14024.; alt. Secondary sanctions risk: Ukraine-/Russia-Related Sanctions Regulations, 31 CFR 589.201 and/or 589.209; Vessel Registration Identification IMO 9392822; MMSI 352002872 (vessel) [UKRAINE-EO13662] [RUSSIA-EO14024] (Linked To: GIFTED PEAK LIMITED).

Identified as property in which GIFTED PEAK LIMITED, a person whose property and interests in property are blocked pursuant to E.O. 13662, has an interest.

Identified as property in which GIFTED PEAK LIMITED, a person whose property and interests in property are blocked pursuant to E.O. 14024, has an interest.

51. HUI HAI ATLANTIC (3E3814) Crude Oil Tanker Panama flag; Secondary sanctions risk: See Section 11 of Executive Order 14024.; alt. Secondary sanctions risk: Ukraine-/Russia-Related Sanctions Regulations, 31 CFR 589.201 and/or 589.209; Vessel Registration Identification IMO 9312872; MMSI 352002139 (vessel) [UKRAINE-EO13662] [RUSSIA-EO14024] (Linked To: HUIHAI HONG KONG SHIPPING CO LIMITED).

Identified as property in which HUIHAI HONG KONG SHIPPING CO LIMITED, a person whose property and interests in property are blocked pursuant to E.O. 13662, has an interest.

Identified as property in which HUIHAI HONG KONG SHIPPING CO LIMITED, a person whose property and interests in property are blocked pursuant to E.O. 14024, has an interest.

52. HUIHAI PACIFIC (3E3800) Crude Oil Tanker Panama flag; Secondary sanctions risk: See Section 11 of Executive Order 14024.; alt. Secondary sanctions risk: Ukraine-/Russia-Related Sanctions Regulations, 31 CFR 589.201 and/or 589.209; Vessel Registration Identification IMO 9346732; MMSI 352002122 (vessel) [UKRAINE-EO13662] [RUSSIA-EO14024] (Linked To: HONG KONG HANYUAN SHIPPING CO LIMITED).

Identified as property in which HONG KONG HANYUAN SHIPPING CO LIMITED, a person whose property and interests in property are blocked pursuant to E.O. 13662, has an interest.

Identified as property in which HONG KONG HANYUAN SHIPPING CO LIMITED, a person whose property and interests in property are blocked pursuant to E.O. 14024, has an interest.

53. HYPERION (8P2458) Chemical/Oil Tanker Barbados flag; Secondary sanctions risk: See Section 11 of Executive Order 14024.; alt. Secondary sanctions risk: Ukraine-/Russia-Related Sanctions Regulations, 31 CFR 589.201 and/or 589.209; Vessel Registration Identification IMO 9322968; MMSI 314958000 (vessel) [UKRAINE-EO13662] [RUSSIA-EO14024] (Linked To: FORNAX SHIP MANAGEMENT FZCO).

Identified as property in which FORNAX SHIP MANAGEMENT FZCO, a person whose property and interests in property are blocked pursuant to E.O. 13662, has an interest.

Identified as property in which FORNAX SHIP MANAGEMENT FZCO, a person whose property and interests in property are blocked pursuant to E.O. 14024, has an interest.

54. IVAN AIVAZOVSKY Products Tanker Russia flag; Secondary sanctions risk: See Section 11 of Executive Order 14024.; alt. Secondary sanctions risk: Ukraine-/Russia-Related Sanctions Regulations, 31 CFR 589.201 and/or 589.209; Vessel Registration Identification IMO 9876359 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

55. IVY (XVJI7) Crude Oil Tanker Vietnam flag; Secondary sanctions risk: See Section 11 of Executive Order 14024.; alt. Secondary sanctions risk: Ukraine-/Russia-Related Sanctions Regulations, 31 CFR 589.201 and/or 589.209; Vessel Registration Identification IMO 9337133; MMSI 574005380 (vessel) [UKRAINE-EO13662] [RUSSIA-EO14024] (Linked To: SAO VIET PETROL TRANSPORTATION COMPANY LIMITED).

Identified as property in which SAO VIET PETROL TRANSPORTATION COMPANY LIMITED, a person whose property and interests in property are blocked pursuant to E.O. 13662, has an interest.

Identified as property in which SAO VIET PETROL TRANSPORTATION COMPANY LIMITED, a person whose property and interests in property are blocked pursuant to E.O. 14024, has an interest.

56. JUPITER (8P2425) Chemical/Oil Tanker Barbados flag; Secondary sanctions risk: See Section 11 of Executive Order 14024.; alt. Secondary sanctions risk: Ukraine-/Russia-Related Sanctions Regulations, 31 CFR 589.201 and/or 589.209; Vessel Year of Build 2009; Vessel Registration Identification IMO 9397535; MMSI 314931000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

57. KAPAL CANTIK (E5U4767) Crude Oil Tanker Cook Islands flag; Secondary sanctions risk: See Section 11 of Executive Order 14024.; alt. Secondary sanctions risk: Ukraine-/Russia-Related Sanctions Regulations, 31 CFR 589.201 and/or 589.209; Vessel Registration Identification IMO 9224283; MMSI 518998787 (vessel) [UKRAINE-EO13662] [RUSSIA-EO14024] (Linked To: WORTHALIANCE LIMITED).

Identified as property in which WORTHALIANCE LIMITED, a person whose property and interests in property are blocked pursuant to E.O. 13662, has an interest.

Identified as property in which WORTHALIANCE LIMITED, a person whose property and interests in property are blocked pursuant to E.O. 14024, has an interest.

58. KAPITAN GOTSKY (UBCF2) Shuttle Tanker Russia flag; Secondary sanctions risk: See Section 11 of Executive Order 14024.; alt. Secondary sanctions risk: Ukraine-/Russia-Related Sanctions Regulations, 31 CFR 589.201 and/or 589.209; Vessel Registration Identification IMO 9372559; MMSI 273335010 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

59. KIRILL LAVROV (UBOL9) Crude Oil Tanker Russia flag; Secondary sanctions risk: See Section 11 of Executive Order 14024.; alt. Secondary sanctions risk: Ukraine-/Russia-Related Sanctions Regulations, 31 CFR 589.201 and/or 589.209; Vessel Registration Identification IMO 9333682; MMSI 273345750 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

60. KOLA (UBDQ5) Floating Storage Tanker Russia flag; Secondary sanctions risk: See Section 11 of Executive Order 14024.; alt. Secondary sanctions risk: Ukraine-/Russia-Related Sanctions Regulations, 31 CFR 589.201 and/or 589.209; Vessel Registration Identification IMO 9217979; MMSI 273414140 (vessel) [UKRAINE-EO13662] [RUSSIA-EO14024] (Linked To: LK VOLGA LIMITED LIABILITY COMPANY).

Identified as property in which LK VOLGA LIMITED LIABILITY COMPANY, a person whose property and interests in property are blocked pursuant to E.O. 13662, has an interest.

Identified as property in which LK VOLGA LIMITED LIABILITY COMPANY, a person whose property and interests in property are blocked pursuant to E.O. 14024, has an interest.

61. KRISHNA 1 (TRAT4) Crude Oil Tanker Panama flag; Secondary sanctions risk: See Section 11 of Executive Order 14024.; alt. Secondary sanctions risk: Ukraine-/Russia-Related Sanctions Regulations, 31 CFR 589.201 and/or 589.209; Vessel Registration Identification IMO 9271585; MMSI 352004581 (vessel) [UKRAINE-EO13662] [RUSSIA-EO14024] (Linked To: AMSHA MARITIME).

Identified as property in which AMSHA MARITIME, a person whose property and interests in property are blocked pursuant to E.O. 13662, has an interest.

Identified as property in which AMSHA MARITIME, a person whose property and interests in property are blocked pursuant to E.O. 14024, has an interest.

62. LAUREN II (3FCU5) Crude Oil Tanker Panama flag; Secondary sanctions risk: See Section 11 of Executive Order 14024.; alt. Secondary sanctions risk: Ukraine-/Russia-Related Sanctions Regulations, 31 CFR 589.201 and/or 589.209; Vessel Registration Identification IMO 9258521; MMSI 355070000 (vessel) [UKRAINE-EO13662] [RUSSIA-EO14024] (Linked To: SUNNE CO LIMITED).

Identified as property in which SUNNE CO LIMITED, a person whose property and interests in property are blocked pursuant to E.O. 13662, has an interest.

Identified as property in which SUNNE CO LIMITED, a person whose property and interests in property are blocked pursuant to E.O. 14024, has an interest.

63. LEGACY (8P2256) Crude Oil Tanker Barbados flag; Secondary sanctions risk: See Section 11 of Executive Order 14024.; alt. Secondary sanctions risk: Ukraine-/Russia-Related Sanctions Regulations, 31 CFR 589.201 and/or 589.209; Vessel Registration Identification IMO 9339337; MMSI 314892000 (vessel) [UKRAINE-EO13662] [RUSSIA-EO14024] (Linked To: STREAM SHIP MANAGEMENT FZCO).

Identified as property in which STREAM SHIP MANAGEMENT FZCO, a person whose property and interests in property are blocked pursuant to E.O. 13662, has an interest.

Identified as property in which STREAM SHIP MANAGEMENT FZCO, a person whose property and interests in property are blocked pursuant to E.O. 14024, has an interest.

64. LEO (8P2467) Crude Oil Tanker Barbados flag; Secondary sanctions risk: See Section 11 of Executive Order 14024.; alt. Secondary sanctions risk: Ukraine-/Russia-Related Sanctions Regulations, 31 CFR 589.201 and/or 589.209; Vessel Registration Identification IMO 9412347; MMSI 314965000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

65. LEOPARD (XVKF7) Crude Oil Tanker Vietnam flag; Secondary sanctions risk: See Section 11 of Executive Order 14024.; alt. Secondary sanctions risk: Ukraine-/Russia-Related Sanctions Regulations, 31 CFR 589.201 and/or 589.209; Vessel Registration Identification IMO 9284594; MMSI 574005550 (vessel) [UKRAINE-EO13662] [RUSSIA-EO14024] (Linked To: SAO VIET PETROL TRANSPORTATION COMPANY LIMITED).

Identified as property in which SAO VIET PETROL TRANSPORTATION COMPANY LIMITED, a person whose property and interests in property are blocked pursuant to E.O. 13662, has an interest.

Identified as property in which SAO VIET PETROL TRANSPORTATION COMPANY LIMITED, a person whose property and interests in property are blocked pursuant to E.O. 14024, has an interest.

66. LI BAI (3E4641) Crude Oil Tanker Panama flag; Secondary sanctions risk: See Section 11 of Executive Order 14024.; alt. Secondary sanctions risk: Ukraine-/Russia-Related Sanctions Regulations, 31 CFR 589.201 and/or 589.209; Vessel Registration Identification IMO 9589750; MMSI 352002861 (vessel) [UKRAINE-EO13662] [RUSSIA-EO14024] (Linked To: HAIMA SHIPPING LIMITED).

Identified as property in which HAIMA SHIPPING LIMITED, a person whose property and interests in property are blocked pursuant to E.O. 13662, has an interest.

Identified as property in which HAIMA SHIPPING LIMITED, a person whose property and interests in property are blocked pursuant to E.O. 14024, has an interest.

67. LIBERTY (8P2253) Crude Oil Tanker Barbados flag; Secondary sanctions risk: See Section 11 of Executive Order 14024.; alt. Secondary sanctions risk: Ukraine-/Russia-Related Sanctions Regulations, 31 CFR 589.201 and/or 589.209; Vessel Registration Identification IMO 9339325; MMSI 314889000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

68. LYRA (3E2571) Crude Oil Tanker Panama flag; Secondary sanctions risk: See Section 11 of Executive Order 14024.; alt. Secondary sanctions risk: Ukraine-/Russia-Related Sanctions Regulations, 31 CFR 589.201 and/or 589.209; Vessel Registration Identification IMO 9314088; MMSI 352001732 (vessel) [UKRAINE-EO13662] [RUSSIA-EO14024] (Linked To: KAT DENNINGS LIMITED).

Identified as property in which KAT DENNINGS LIMITED, a person whose property and interests in property are blocked pursuant to E.O. 13662, has an interest.

Identified as property in which KAT DENNINGS LIMITED, a person whose property and interests in property are blocked pursuant to E.O. 14024, has an interest.

69. M SOPHIA (3FTT) Crude Oil Tanker Panama flag; Secondary sanctions risk: See Section 11 of Executive Order 14024.; alt. Secondary sanctions risk: Ukraine-/Russia-Related Sanctions Regulations, 31 CFR 589.201 and/or 589.209; Vessel Registration Identification IMO 9289477; MMSI 374933000 (vessel) [UKRAINE-EO13662] [RUSSIA-EO14024] (Linked To: SUNNE CO LIMITED).

Identified as property in which SUNNE CO LIMITED, a person whose property and interests in property are blocked pursuant to E.O. 13662, has an interest.

Identified as property in which SUNNE CO LIMITED, a person whose property and interests in property are blocked pursuant to E.O. 14024, has an interest.

70. MAKALU (8P2533) Crude Oil Tanker Barbados flag; Secondary sanctions risk: See Section 11 of Executive Order 14024.; alt. Secondary sanctions risk: Ukraine-/Russia-Related Sanctions Regulations, 31 CFR 589.201 and/or 589.209; Vessel Registration Identification IMO 9314105; MMSI 314001002 (vessel) [UKRAINE-EO13662] [RUSSIA-EO14024] (Linked To: DOUBLE HARMONY MARINE CORPORATION).

Identified as property in which DOUBLE HARMONY MARINE CORPORATION, a person whose property and interests in property are blocked pursuant to E.O. 13662, has an interest.

Identified as property in which DOUBLE HARMONY MARINE CORPORATION, a person whose property and interests in property are blocked pursuant to E.O. 14024, has an interest.

71. MERCURY (TRAX8) Crude Oil Tanker Gabon flag; Secondary sanctions risk: See Section 11 of Executive Order 14024.; alt. Secondary sanctions risk: Ukraine-/Russia-Related Sanctions Regulations, 31 CFR 589.201 and/or 589.209; Vessel Registration Identification IMO 9321706; MMSI 626315000 (vessel) [UKRAINE-EO13662] [RUSSIA-EO14024] (Linked To: GESSI MARITIME CORPORATION).

Identified as property in which GESSI MARITIME CORPORATION, a person whose property and interests in property are blocked pursuant to E.O. 13662, has an interest.

Identified as property in which GESSI MARITIME CORPORATION, a person whose property and interests in property are blocked pursuant to E.O. 14024, has an interest.

72. MERMAR (3E3356) Crude Oil Tanker Panama flag; Secondary sanctions risk: See Section 11 of Executive Order 14024.; alt. Secondary sanctions risk: Ukraine-/Russia-Related Sanctions Regulations, 31 CFR 589.201 and/or 589.209; Vessel Registration Identification IMO 9231212; MMSI 352978243 (vessel) [UKRAINE-EO13662] [RUSSIA-EO14024] (Linked To: MERLUZA GROUP LIMITED).

Identified as property in which MERLUZA GROUP LIMITED, a person whose property and interests in property are blocked pursuant to E.O. 13662, has an interest.

Identified as property in which MERLUZA GROUP LIMITED, a person whose property and interests in property are blocked pursuant to E.O. 14024, has an interest.

73. MEROPE (3E2648) Crude Oil Tanker Panama flag; Secondary sanctions risk: See Section 11 of Executive Order 14024.; alt. Secondary sanctions risk: Ukraine-/Russia-Related Sanctions Regulations, 31 CFR 589.201 and/or 589.209; Vessel Registration Identification IMO 9281891; MMSI 352002495 (vessel) [UKRAINE-EO13662] [IRAN-EO13902] [RUSSIA-EO14024] (Linked To: SHANGHAI FUTURE SHIP MANAGEMENT CO LTD; Linked To: LEPUS SAI LIMITED)

Identified as property in which LEPUS SAI LIMITED, a person whose property and interests in property are blocked pursuant to E.O. 13662, has an interest.

Identified as property in which LEPUS SAI LIMITED, a person whose property and interests in property are blocked pursuant to E.O. 14024, has an interest.

74. MERU (9LS2036) Crude Oil Tanker Sierra Leone flag; Secondary sanctions risk: See Section 11 of Executive Order 14024.; alt. Secondary sanctions risk: Ukraine-/Russia-Related Sanctions Regulations, 31 CFR 589.201 and/or 589.209; Vessel Registration Identification IMO 9187227; MMSI 667002333 (vessel) [UKRAINE-EO13662] [RUSSIA-EO14024] (Linked To: HARMONY GROVE CORPORATION).

Identified as property in which HARMONY GROVE CORPORATION, a person whose property and interests in property are blocked pursuant to E.O. 13662, has an interest.

Identified as property in which HARMONY GROVE CORPORATION, a person whose property and interests in property are blocked pursuant to E.O. 14024, has an interest.

75. MIKHAIL LAZAREV (UBZS8) Shuttle Tanker Russia flag; Secondary sanctions risk: See Section 11 of Executive Order 14024.; alt. Secondary sanctions risk: Ukraine-/Russia-Related Sanctions Regulations, 31 CFR 589.201 and/or 589.209; Vessel Registration Identification IMO 9837547; MMSI 273212310 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

76. MIKHAIL ULYANOV (UBAL3) Crude Oil Tanker Russia flag; Secondary sanctions risk: See Section 11 of Executive Order 14024.; alt. Secondary sanctions risk: Ukraine-/Russia-Related Sanctions Regulations, 31 CFR 589.201 and/or 589.209; Vessel Registration Identification IMO 9333670; MMSI 273328440 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

77. MIN HANG (E5U5075) Crude Oil Tanker Cook Islands flag; Secondary sanctions risk: See Section 11 of Executive Order 14024.; alt. Secondary sanctions risk: Ukraine-/Russia-Related Sanctions Regulations, 31 CFR 589.201 and/or 589.209; Vessel Registration Identification IMO 9257137; MMSI 518999094 (vessel) [UKRAINE-EO13662] [IRAN-EO13902] [RUSSIA-EO14024] (Linked To: SHANGHAI LEGENDARY SHIP MANAGEMENT COMPANY LIMITED; Linked To: AMBRA LIMITED).

Identified as property in which AMBRA LIMITED, a person whose property and interests in property are blocked pursuant to E.O. 13662, has an interest.

Identified as property in which AMBRA LIMITED, a person whose property and interests in property are blocked pursuant to E.O. 14024, has an interest.

78. MINERVA M (3E2537) Crude Oil Tanker Panama flag; Secondary sanctions risk: See Section 11 of Executive Order 14024.; alt. Secondary sanctions risk: Ukraine-/Russia-Related Sanctions Regulations, 31 CFR 589.201 and/or 589.209; Vessel Registration Identification IMO 9282479; MMSI 352001530 (vessel) [UKRAINE-EO13662] [RUSSIA-EO14024] (Linked To: SUNNE CO LIMITED).

Identified as property in which SUNNE CO LIMITED, a person whose property and interests in property are blocked pursuant to E.O. 13662, has an interest.

Identified as property in which SUNNE CO LIMITED, a person whose property and interests in property are blocked pursuant to E.O. 14024, has an interest.

79. MISTRAL 1 (T7AV4) Crude Oil Tanker San Marino flag; Secondary sanctions risk: See Section 11 of Executive Order 14024.; alt. Secondary sanctions risk: Ukraine-/Russia-Related Sanctions Regulations, 31 CFR 589.201 and/or 589.209; Vessel Registration Identification IMO 9257993; MMSI 268249200 (vessel) [UKRAINE-EO13662] [RUSSIA-EO14024] (Linked To: ODINE MARINE INCORPORATED).

Identified as property in which ODINE MARINE INCORPORATED, a person whose property and interests in property are blocked pursuant to E.O. 13662, has an interest.

Identified as property in which ODINE MARINE INCORPORATED, a person whose property and interests in property are blocked pursuant to E.O. 14024, has an interest.

80. MOSKOVSKY PROSPECT (TRBE7) Crude Oil Tanker Gabon flag; Secondary sanctions risk: See Section 11 of Executive Order 14024.; alt. Secondary sanctions risk: Ukraine-/Russia-Related Sanctions Regulations, 31 CFR 589.201 and/or 589.209; Vessel Registration Identification IMO 9511521; MMSI 626368000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

81. MOTI (J2JZ) Crude Oil Tanker Djibouti flag; Secondary sanctions risk: See Section 11 of Executive Order 14024.; alt. Secondary sanctions risk: Ukraine-/Russia-Related Sanctions Regulations, 31 CFR 589.201 and/or 589.209; Vessel Registration Identification IMO 9281011; MMSI 621819067 (vessel) [UKRAINE-EO13662] [RUSSIA-EO14024] (Linked To: WAVECREST MARITIME LIMITED).

Identified as property in which WAVECREST MARITIME LIMITED, a person whose property and interests in property are blocked pursuant to E.O. 13662, has an interest.

Identified as property in which WAVECREST MARITIME LIMITED, a person whose property and interests in property are blocked pursuant to E.O. 14024, has an interest.

82. MUM (V2YP5) Crude Oil Tanker Antigua and Barbuda flag; Secondary sanctions risk: See Section 11 of Executive Order 14024.; alt. Secondary sanctions risk: Ukraine-/Russia-Related Sanctions Regulations, 31 CFR 589.201 and/or 589.209; Vessel Registration Identification IMO 9315446; MMSI 305026000 (vessel) [UKRAINE-EO13662] [RUSSIA-EO14024] (Linked To: AQUAQUASAR HOLDING LIMITED).

Identified as property in which AQUAQUASAR HOLDING LIMITED, a person whose property and interests in property are blocked pursuant to E.O. 13662, has an interest.

Identified as property in which AQUAQUASAR HOLDING LIMITED, a person whose property and interests in property are blocked pursuant to E.O. 14024, has an interest.

83. MURMANSK (UBRR2) Chemical/Oil Tanker Russia flag; Secondary sanctions risk: See Section 11 of Executive Order 14024.; alt. Secondary sanctions risk: Ukraine-/Russia-Related Sanctions Regulations, 31 CFR 589.201 and/or 589.209; Vessel Registration Identification IMO 9167930; MMSI 273430430 (vessel) [UKRAINE-EO13662] [RUSSIA-EO14024] (Linked To: GAZPROMNEFT MARINE BUNKER LIMITED LIABILITY COMPANY).

Identified as property in which GAZPROMNEFT MARINE BUNKER LIMITED LIABILITY COMPANY, a person whose property and interests in property are blocked pursuant to E.O. 13662, has an interest.

Identified as property in which GAZPROMNEFT MARINE BUNKER LIMITED LIABILITY COMPANY, a person whose property and interests in property are blocked pursuant to E.O. 14024, has an interest.

84. NANDA DEVI (TRAT3) Crude Oil Tanker Gabon flag; Secondary sanctions risk: See Section 11 of Executive Order 14024.; alt. Secondary sanctions risk: Ukraine-/Russia-Related Sanctions Regulations, 31 CFR 589.201 and/or 589.209; Vessel Registration Identification IMO 9274434; MMSI 626279000 (vessel) [UKRAINE-EO13662] [RUSSIA-EO14024] (Linked To: TAGABO MARITIME CORPORATION).

Identified as property in which TAGABO MARITIME CORPORATION, a person whose property and interests in property are blocked pursuant to E.O. 13662, has an interest.

Identified as property in which TAGABO MARITIME CORPORATION, a person whose property and interests in property are blocked pursuant to E.O. 14024, has an interest.

85. NEREUS SOPHIA (3E5862) Crude Oil Tanker Panama flag; Secondary sanctions risk: See Section 11 of Executive Order 14024.; alt. Secondary sanctions risk: Ukraine-/Russia-Related Sanctions Regulations, 31 CFR 589.201 and/or 589.209; Vessel Registration Identification IMO 9266853; MMSI 352003763 (vessel) [UKRAINE-EO13662] [RUSSIA-EO14024] (Linked To: MEGHAN GROUP LIMITED).

Identified as property in which MEGHAN GROUP LIMITED, a person whose property and interests in property are blocked pursuant to E.O. 13662, has an interest.

Identified as property in which MEGHAN GROUP LIMITED, a person whose property and interests in property are blocked pursuant to E.O. 14024, has an interest.

86. NEVE (3E6083) Crude Oil Tanker Panama flag; Secondary sanctions risk: See Section 11 of Executive Order 14024.; alt. Secondary sanctions risk: Ukraine-/Russia-Related Sanctions Regulations, 31 CFR 589.201 and/or 589.209; Vessel Registration Identification IMO 9224465; MMSI 352003222 (vessel) [UKRAINE-EO13662] [RUSSIA-EO14024] (Linked To: TRIDENT INFINITY LIMITED).

Identified as property in which TRIDENT INFINITY LIMITED, a person whose property and interests in property are blocked pursuant to E.O. 13662, has an interest.

Identified as property in which TRIDENT INFINITY LIMITED, a person whose property and interests in property are blocked pursuant to E.O. 14024, has an interest.

87. NIKOLAY ZADORNOV (3E3485) Crude Oil Tanker Panama flag; Secondary sanctions risk: See Section 11 of Executive Order 14024.; alt. Secondary sanctions risk: Ukraine-/Russia-Related Sanctions Regulations, 31 CFR 589.201 and/or 589.209; Vessel Registration Identification IMO 9901037; MMSI 352002208 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

88. NS PRIDE (TRBI6) Chemical/Oil Tanker Gabon flag; Secondary sanctions risk: See Section 11 of Executive Order 14024.; alt. Secondary sanctions risk: Ukraine-/Russia-Related Sanctions Regulations, 31 CFR 589.201 and/or 589.209; Vessel Year of Build 2006; Vessel Registration Identification IMO 9322956; MMSI 626399000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

89. NS SILVER (3E7521) Chemical/Oil Tanker Panama flag; Secondary sanctions risk: See Section 11 of Executive Order 14024.; alt. Secondary sanctions risk: Ukraine-/Russia-Related Sanctions Regulations, 31 CFR 589.201 and/or 589.209; Vessel Year of Build 2005; Vessel Registration Identification IMO 9309576; MMSI 352003367 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

90. NURKEZ (3E2311) Crude Oil Tanker Panama flag; Secondary sanctions risk: See Section 11 of Executive Order 14024.; alt. Secondary sanctions risk: Ukraine-/Russia-Related Sanctions Regulations, 31 CFR 589.201 and/or 589.209; Vessel Registration Identification IMO 9253325; MMSI 352002470 (vessel) [UKRAINE-EO13662] [RUSSIA-EO14024] (Linked To: SERPENS LIMITED).

Identified as property in which SERPENS LIMITED, a person whose property and interests in property are blocked pursuant to E.O. 13662, has an interest.

Identified as property in which SERPENS LIMITED, a person whose property and interests in property are blocked pursuant to E.O. 14024, has an interest.

91. NURSULTAN NAZARBAYEV Crude Oil Tanker Russia flag; Secondary sanctions risk: See Section 11 of Executive Order 14024.; alt. Secondary sanctions risk: Ukraine-/Russia-Related Sanctions Regulations, 31 CFR 589.201 and/or 589.209; Vessel Registration Identification IMO 9842217 (vessel) [UKRAINE-EO13662] [RUSSIA-EO14024] (Linked To: JOINT STOCK COMPANY ROSNEFTEFLOT).

Identified as property in which JOINT STOCK COMPANY ROSNEFTEFLOT, a person whose property and interests in property are blocked pursuant to E.O. 13662, has an interest.

Identified as property in which JOINT STOCK COMPANY ROSNEFTEFLOT, a person whose property and interests in property are blocked pursuant to E.O. 14024, has an interest.

92. OKEANSKY PROSPECT (UBFV) Crude Oil Tanker Russia flag; Secondary sanctions risk: See Section 11 of Executive Order 14024.; alt. Secondary sanctions risk: Ukraine-/Russia-Related Sanctions Regulations, 31 CFR 589.201 and/or 589.209; Vessel Registration Identification IMO 9866380; MMSI 273618730 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

93. OKEANSKY PROSPECT Crude Oil Tanker Russia flag; Secondary sanctions risk: See Section 11 of Executive Order 14024.; alt. Secondary sanctions risk: Ukraine-/Russia-Related Sanctions Regulations, 31 CFR 589.201 and/or 589.209; Vessel Registration Identification IMO 9898254 (vessel) [UKRAINE-EO13662] [RUSSIA-EO14024] (Linked To: JOINT STOCK COMPANY ROSNEFTEFLOT).

Identified as property in which JOINT STOCK COMPANY ROSNEFTEFLOT, a person whose property and interests in property are blocked pursuant to E.O. 13662, has an interest.

Identified as property in which JOINT STOCK COMPANY ROSNEFTEFLOT, a person whose property and interests in property are blocked pursuant to E.O. 14024, has an interest.

94. OLANGA (UBVH4) Products Tanker Russia flag; Secondary sanctions risk: See Section 11 of Executive Order 14024.; alt. Secondary sanctions risk: Ukraine-/Russia-Related Sanctions Regulations, 31 CFR 589.201 and/or 589.209; Vessel Registration Identification IMO 9286463; MMSI 273355340 (vessel) [UKRAINE-EO13662] [RUSSIA-EO14024] (Linked To: GAZPROMNEFT MARINE BUNKER LIMITED LIABILITY COMPANY).

Identified as property in which GAZPROMNEFT MARINE BUNKER LIMITED LIABILITY COMPANY, a person whose property and interests in property are blocked pursuant to E.O. 13662, has an interest.

Identified as property in which GAZPROMNEFT MARINE BUNKER LIMITED LIABILITY COMPANY, a person whose property and interests in property are blocked pursuant to E.O. 14024, has an interest.

95. OLIA (TRBO9) Crude Oil Tanker Gabon flag; Secondary sanctions risk: See Section 11 of Executive Order 14024.; alt. Secondary sanctions risk: Ukraine-/Russia-Related Sanctions Regulations, 31 CFR 589.201 and/or 589.209; Vessel Registration Identification IMO 9268112; MMSI 626450000 (vessel) [UKRAINE-EO13662] [RUSSIA-EO14024] (Linked To: ARISTOS MARITIME INCORPORATED).

Identified as property in which ARISTOS MARITIME INCORPORATED, a person whose property and interests in property are blocked pursuant to E.O. 13662, has an interest.

Identified as property in which ARISTOS MARITIME INCORPORATED, a person whose property and interests in property are blocked pursuant to E.O. 14024, has an interest.

96. OLIVIA (9LS2020) Crude Oil Tanker Sierra Leone flag; Secondary sanctions risk: See Section 11 of Executive Order 14024.; alt. Secondary sanctions risk: Ukraine-/Russia-Related Sanctions Regulations, 31 CFR 589.201 and/or 589.209; Vessel Registration Identification IMO 9233741; MMSI 667002317 (vessel) [UKRAINE-EO13662] [RUSSIA-EO14024] (Linked To: FRINA EXPRESS CORPORATION).

Identified as property in which FRINA EXPRESS CORPORATION, a person whose property and interests in property are blocked pursuant to E.O. 13662, has an interest.

Identified as property in which FRINA EXPRESS CORPORATION, a person whose property and interests in property are blocked pursuant to E.O. 14024, has an interest.

97. OMSK (UBZU) Chemical/Oil Tanker Russia flag; Secondary sanctions risk: See Section 11 of Executive Order 14024.; alt. Secondary sanctions risk: Ukraine-/Russia-Related Sanctions Regulations, 31 CFR 589.201 and/or 589.209; Vessel Registration Identification IMO 9418509; MMSI 273371330 (vessel) [UKRAINE-EO13662] [RUSSIA-EO14024] (Linked To: GAZPROMNEFT MARINE BUNKER LIMITED LIABILITY COMPANY).

Identified as property in which GAZPROMNEFT MARINE BUNKER LIMITED LIABILITY COMPANY, a person whose property and interests in property are blocked pursuant to E.O. 13662, has an interest.

Identified as property in which GAZPROMNEFT MARINE BUNKER LIMITED LIABILITY COMPANY, a person whose property and interests in property are blocked pursuant to E.O. 14024, has an interest.

98. ORIENT HARMONY (3E5021) Bulk Carrier Panama flag; Secondary sanctions risk: See Section 11 of Executive Order 14024.; alt. Secondary sanctions risk: Ukraine-/Russia-Related Sanctions Regulations, 31 CFR 589.201 and/or 589.209; Vessel Registration Identification IMO 9620633; MMSI 352002708 (vessel) [UKRAINE-EO13662] [RUSSIA-EO14024] (Linked To: PROMINENT SHIPMANAGEMENT LIMITED).

Identified as property in which PROMINENT SHIPMANAGEMENT LIMITED, a person whose property and interests in property are blocked pursuant to E.O. 13662, has an interest.

Identified as property in which PROMINENT SHIPMANAGEMENT LIMITED, a person whose property and interests in property are blocked pursuant to E.O. 14024, has an interest.

99. ORIENT VISION (3E5020) Bulk Carrier Panama flag; Secondary sanctions risk: See Section 11 of Executive Order 14024.; alt. Secondary sanctions risk: Ukraine-/Russia-Related Sanctions Regulations, 31 CFR 589.201 and/or 589.209; Vessel Registration Identification IMO 9673202; MMSI 352002707 (vessel) [UKRAINE-EO13662] [RUSSIA-EO14024] (Linked To: PROMINENT SHIPMANAGEMENT LIMITED).

Identified as property in which PROMINENT SHIPMANAGEMENT LIMITED, a person whose property and interests in property are blocked pursuant to E.O. 13662, has an interest.

Identified as property in which PROMINENT SHIPMANAGEMENT LIMITED, a person whose property and interests in property are blocked pursuant to E.O. 14024, has an interest.

100. OWENS (H3XW) LPG Tanker Panama flag; Secondary sanctions risk: See Section 11 of Executive Order 14024.; alt. Secondary sanctions risk: Ukraine-/Russia-Related Sanctions Regulations, 31 CFR 589.201 and/or 589.209; Vessel Registration Identification IMO 9223540; MMSI 373482000 (vessel) [UKRAINE-EO13662] [RUSSIA-EO14024] (Linked To: SAO VIET PETROL TRANSPORTATION COMPANY LIMITED).

Identified as property in which SAO VIET PETROL TRANSPORTATION COMPANY LIMITED, a person whose property and interests in property are blocked pursuant to E.O. 13662, has an interest.

Identified as property in which SAO VIET PETROL TRANSPORTATION COMPANY LIMITED, a person whose property and interests in property are blocked pursuant to E.O. 14024, has an interest.

101. PANDA (XVJG7) Crude Oil Tanker Vietnam flag; Secondary sanctions risk: See Section 11 of Executive Order 14024.; alt. Secondary sanctions risk: Ukraine-/Russia-Related Sanctions Regulations, 31 CFR 589.201 and/or 589.209; Vessel Registration Identification IMO 9284582; MMSI 574005540 (vessel) [UKRAINE-EO13662] [RUSSIA-EO14024] (Linked To: SAO VIET PETROL TRANSPORTATION COMPANY LIMITED).

Identified as property in which SAO VIET PETROL TRANSPORTATION COMPANY LIMITED, a person whose property and interests in property are blocked pursuant to E.O. 13662, has an interest.

Identified as property in which SAO VIET PETROL TRANSPORTATION COMPANY LIMITED, a person whose property and interests in property are blocked pursuant to E.O. 14024, has an interest.

102. PATHFINDER (8P2482) Crude Oil Tanker Barbados flag; Secondary sanctions risk: See Section 11 of Executive Order 14024.; alt. Secondary sanctions risk: Ukraine-/Russia-Related Sanctions Regulations, 31 CFR 589.201 and/or 589.209; Vessel Registration Identification IMO 9577094; MMSI 314976000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

103. PAVEL CHERNYSH (3E4132) Crude Oil Tanker Panama flag; Secondary sanctions risk: See Section 11 of Executive Order 14024.; alt. Secondary sanctions risk: Ukraine-/Russia-Related Sanctions Regulations, 31 CFR 589.201 and/or 589.209; Vessel Registration Identification IMO 9301380; MMSI 352002195 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

104. PEGASUS (8P2449) Chemical/Oil Tanker Barbados flag; Secondary sanctions risk: See Section 11 of Executive Order 14024.; alt. Secondary sanctions risk: Ukraine-/Russia-Related Sanctions Regulations, 31 CFR 589.201 and/or 589.209; Vessel Registration Identification IMO 9276028; MMSI 314951000 (vessel) [UKRAINE-EO13662] [RUSSIA-EO14024] (Linked To: FORNAX SHIP MANAGEMENT FZCO).

Identified as property in which FORNAX SHIP MANAGEMENT FZCO, a person whose property and interests in property are blocked pursuant to E.O. 13662, has an interest.

Identified as property in which FORNAX SHIP MANAGEMENT FZCO, a person whose property and interests in property are blocked pursuant to E.O. 14024, has an interest.

105. PING AN (3E4672) Crude Oil Tanker Panama flag; Secondary sanctions risk: See Section 11 of Executive Order 14024.; alt. Secondary sanctions risk: Ukraine-/Russia-Related Sanctions Regulations, 31 CFR 589.201 and/or 589.209; Vessel Registration Identification IMO 9378632; MMSI 352002898 (vessel) [UKRAINE-EO13662] [RUSSIA-EO14024] (Linked To: CHENG SHIPPING AND TRADER LIMITED).

Identified as property in which CHENG SHIPPING AND TRADER LIMITED, a person whose property and interests in property are blocked pursuant to E.O. 13662, has an interest.

Identified as property in which CHENG SHIPPING AND TRADER LIMITED, a person whose property and interests in property are blocked pursuant to E.O. 14024, has an interest.

106. PREMIER (8P2443) Products Tanker Barbados flag; Secondary sanctions risk: See Section 11 of Executive Order 14024.; alt. Secondary sanctions risk: Ukraine-/Russia-Related Sanctions Regulations, 31 CFR 589.201 and/or 589.209; Vessel Year of Build 2011; Vessel Registration Identification IMO 9577082; MMSI 314945000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

107. PROXIMA (8P2475) Chemical/Oil Tanker Barbados flag; Secondary sanctions risk: See Section 11 of Executive Order 14024.; alt. Secondary sanctions risk: Ukraine-/Russia-Related Sanctions Regulations, 31 CFR 589.201 and/or 589.209; Vessel Registration Identification IMO 9329655; MMSI 314971000 (vessel) [UKRAINE-EO13662] [RUSSIA-EO14024] (Linked To: FORNAX SHIP MANAGEMENT FZCO).

Identified as property in which FORNAX SHIP MANAGEMENT FZCO, a person whose property and interests in property are blocked pursuant to E.O. 13662, has an interest.

Identified as property in which FORNAX SHIP MANAGEMENT FZCO, a person whose property and interests in property are blocked pursuant to E.O. 14024, has an interest.

108. PSKOV (8P2424) LNG Carrier Barbados flag; Secondary sanctions risk: See Section 11 of Executive Order 14024.; alt. Secondary sanctions risk: Ukraine-/Russia-Related Sanctions Regulations, 31 CFR 589.201 and/or 589.209; Vessel Registration Identification IMO 9630028; MMSI 314930000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

109. PYTHON (8P2523) Crude Oil Tanker Barbados flag; Secondary sanctions risk: See Section 11 of Executive Order 14024.; alt. Secondary sanctions risk: Ukraine-/Russia-Related Sanctions Regulations, 31 CFR 589.201 and/or 589.209; Vessel Registration Identification IMO 9250531; MMSI 314993000 (vessel) [UKRAINE-EO13662] [RUSSIA-EO14024] (Linked To: OCEAN WATERS MARITIME CORPORATION).

Identified as property in which OCEAN WATERS MARITIME CORPORATION, a person whose property and interests in property are blocked pursuant to E.O. 13662, has an interest.

Identified as property in which OCEAN WATERS MARITIME CORPORATION, a person whose property and interests in property are blocked pursuant to E.O. 14024, has an interest.

110. RIGEL (8P2389) Crude Oil Tanker Barbados flag; Secondary sanctions risk: See Section 11 of Executive Order 14024.; alt. Secondary sanctions risk: Ukraine-/Russia-Related Sanctions Regulations, 31 CFR 589.201 and/or 589.209; Vessel Registration Identification IMO 9511533; MMSI 314919000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

111. RN AMUR (UIZU) Tug Russia flag; Secondary sanctions risk: See Section 11 of Executive Order 14024.; alt. Secondary sanctions risk: Ukraine-/Russia-Related Sanctions Regulations, 31 CFR 589.201 and/or 589.209; alt. Secondary sanctions risk: Ukraine-/Russia-Related Sanctions Regulations, 31 CFR 589.201 and/or 589.209; Vessel Registration Identification IMO 9653068; MMSI 273333470 (vessel) [UKRAINE-EO13662] [RUSSIA-EO14024] (Linked To: JOINT STOCK COMPANY ROSNEFTEFLOT).

Identified as property in which JOINT STOCK COMPANY ROSNEFTEFLOT, a person whose property and interests in property are blocked pursuant to E.O. 13662, has an interest.

Identified as property in which JOINT STOCK COMPANY ROSNEFTEFLOT, a person whose property and interests in property are blocked pursuant to E.O. 14024, has an interest.

112. RN SAKHALIN (UBCP8) Products Tanker Russia flag; Secondary sanctions risk: See Section 11 of Executive Order 14024.; alt. Secondary sanctions risk: Ukraine-/Russia-Related Sanctions Regulations, 31 CFR 589.201 and/or 589.209; Vessel Registration Identification IMO 9650016; MMSI 273399390 (vessel) [UKRAINE-EO13662] [RUSSIA-EO14024] (Linked To: JOINT STOCK COMPANY ROSNEFTEFLOT).

Identified as property in which JOINT STOCK COMPANY ROSNEFTEFLOT, a person whose property and interests in property are blocked pursuant to E.O. 13662, has an interest.

Identified as property in which JOINT STOCK COMPANY ROSNEFTEFLOT, a person whose property and interests in property are blocked pursuant to E.O. 14024, has an interest.

113. RN USSURI (UBTK3) Tug Russia flag; Secondary sanctions risk: See Section 11 of Executive Order 14024.; alt. Secondary sanctions risk: Ukraine-/Russia-Related Sanctions Regulations, 31 CFR 589.201 and/or 589.209; Vessel Registration Identification IMO 9653070; MMSI 273320710 (vessel) [UKRAINE-EO13662] [RUSSIA-EO14024] (Linked To: JOINT STOCK COMPANY ROSNEFTEFLOT).

Identified as property in which JOINT STOCK COMPANY ROSNEFTEFLOT, a person whose property and interests in property are blocked pursuant to E.O. 13662, has an interest.

Identified as property in which JOINT STOCK COMPANY ROSNEFTEFLOT, a person whose property and interests in property are blocked pursuant to E.O. 14024, has an interest.

114. SABLE (3E4117) Crude Oil Tanker Panama flag; Secondary sanctions risk: See Section 11 of Executive Order 14024.; alt. Secondary sanctions risk: Ukraine-/Russia-Related Sanctions Regulations, 31 CFR 589.201 and/or 589.209; Vessel Registration Identification IMO 9524451; MMSI 352002179 (vessel) [UKRAINE-EO13662] [RUSSIA-EO14024] (Linked To: PROMINENT SHIPMANAGEMENT LIMITED).

Identified as property in which PROMINENT SHIPMANAGEMENT LIMITED, a person whose property and interests in property are blocked pursuant to E.O. 13662, has an interest.

Identified as property in which PROMINENT SHIPMANAGEMENT LIMITED, a person whose property and interests in property are blocked pursuant to E.O. 14024, has an interest.

115. SAGA (8P2258) Chemical/Oil Tanker Barbados flag; Secondary sanctions risk: See Section 11 of Executive Order 14024.; alt. Secondary sanctions risk: Ukraine-/Russia-Related Sanctions Regulations, 31 CFR 589.201 and/or 589.209; Vessel Registration Identification IMO 9318553; MMSI 314894000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

116. SAGITTA (3E3674) Crude Oil Tanker Panama flag; Secondary sanctions risk: See Section 11 of Executive Order 14024.; alt. Secondary sanctions risk: Ukraine-/Russia-Related Sanctions Regulations, 31 CFR 589.201 and/or 589.209; Vessel Registration Identification IMO 9296822; MMSI 352001616 (vessel) [UKRAINE-EO13662] [RUSSIA-EO14024] (Linked To: SUNNE CO LIMITED).

Identified as property in which SUNNE CO LIMITED, a person whose property and interests in property are blocked pursuant to E.O. 13662, has an interest.

Identified as property in which SUNNE CO LIMITED, a person whose property and interests in property are blocked pursuant to E.O. 14024, has an interest.

117. SAKARYA (3E3835) Crude Oil Tanker Panama flag; Secondary sanctions risk: See Section 11 of Executive Order 14024.; alt. Secondary sanctions risk: Ukraine-/Russia-Related Sanctions Regulations, 31 CFR 589.201 and/or 589.209; Vessel Registration Identification IMO 9524463; MMSI 352002168 (vessel) [UKRAINE-EO13662] [RUSSIA-EO14024] (Linked To: PROMINENT SHIPMANAGEMENT LIMITED).

Identified as property in which PROMINENT SHIPMANAGEMENT LIMITED, a person whose property and interests in property are blocked pursuant to E.O. 13662, has an interest.

Identified as property in which PROMINENT SHIPMANAGEMENT LIMITED, a person whose property and interests in property are blocked pursuant to E.O. 14024, has an interest.

118. SALTY WOLF (3E3497) Crude Oil Tanker Panama flag; Secondary sanctions risk: See Section 11 of Executive Order 14024.; alt. Secondary sanctions risk: Ukraine-/Russia-Related Sanctions Regulations, 31 CFR 589.201 and/or 589.209; Vessel Registration Identification IMO 9530917; MMSI 352002280 (vessel) [UKRAINE-EO13662] [RUSSIA-EO14024] (Linked To: PROMINENT SHIPMANAGEMENT LIMITED).

Identified as property in which PROMINENT SHIPMANAGEMENT LIMITED, a person whose property and interests in property are blocked pursuant to E.O. 13662, has an interest.

Identified as property in which PROMINENT SHIPMANAGEMENT LIMITED, a person whose property and interests in property are blocked pursuant to E.O. 14024, has an interest.

119. SAMSUN (3E2327) Crude Oil Tanker Panama flag; Secondary sanctions risk: See Section 11 of Executive Order 14024.; alt. Secondary sanctions risk: Ukraine-/Russia-Related Sanctions Regulations, 31 CFR 589.201 and/or 589.209; Vessel Registration Identification IMO 9436006; MMSI 352002486 (vessel) [UKRAINE-EO13662] [RUSSIA-EO14024] (Linked To: PROMINENT SHIPMANAGEMENT LIMITED).

Identified as property in which PROMINENT SHIPMANAGEMENT LIMITED, a person whose property and interests in property are blocked pursuant to E.O. 13662, has an interest.

Identified as property in which PROMINENT SHIPMANAGEMENT LIMITED, a person whose property and interests in property are blocked pursuant to E.O. 14024, has an interest.

120. SANAR 7 (UBFX5) Crude Oil Tanker Russia flag; Secondary sanctions risk: See Section 11 of Executive Order 14024.; alt. Secondary sanctions risk: Ukraine-/Russia-Related Sanctions Regulations, 31 CFR 589.201 and/or 589.209; Vessel Registration Identification IMO 9211999; MMSI 273615700 (vessel) [UKRAINE-EO13662] [RUSSIA-EO14024] (Linked To: SUNOR ILLC).

Identified as property in which SUNOR ILLC, a person whose property and interests in property are blocked pursuant to E.O. 13662, has an interest.

Identified as property in which SUNOR ILLC, a person whose property and interests in property are blocked pursuant to E.O. 14024, has an interest.

121. SANAR 8 (UBFX8) Crude Oil Tanker Russia flag; Secondary sanctions risk: See Section 11 of Executive Order 14024.; alt. Secondary sanctions risk: Ukraine-/Russia-Related Sanctions Regulations, 31 CFR 589.201 and/or 589.209; Vessel Registration Identification IMO 9212008; MMSI 273619700 (vessel) [UKRAINE-EO13662] [RUSSIA-EO14024] (Linked To: SUNOR ILLC).

Identified as property in which SUNOR ILLC, a person whose property and interests in property are blocked pursuant to E.O. 13662, has an interest.

Identified as property in which SUNOR ILLC, a person whose property and interests in property are blocked pursuant to E.O. 14024, has an interest.

122. SCF ENDEAVOUR (UIHP) Supply Vessel Russia flag; Secondary sanctions risk: See Section 11 of Executive Order 14024.; alt. Secondary sanctions risk: Ukraine-/Russia-Related Sanctions Regulations, 31 CFR 589.201 and/or 589.209; Vessel Registration Identification IMO 9335678; MMSI 273312540 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

123. SCF ENDURANCE (UIPN) Supply Vessel Russia flag; Secondary sanctions risk: See Section 11 of Executive Order 14024.; alt. Secondary sanctions risk: Ukraine-/Russia-Related Sanctions Regulations, 31 CFR 589.201 and/or 589.209; Vessel Registration Identification IMO 9335680; MMSI 273314650 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

124. SCF ENTERPRISE (UFHH2) Supply Vessel Russia flag; Secondary sanctions risk: See Section 11 of Executive Order 14024.; alt. Secondary sanctions risk: Ukraine-/Russia-Related Sanctions Regulations, 31 CFR 589.201 and/or 589.209; Vessel Registration Identification IMO 9335692; MMSI 273312060 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

125. SCF SAKHALIN (UHME) Supply Vessel Russia flag; Secondary sanctions risk: See Section 11 of Executive Order 14024.; alt. Secondary sanctions risk: Ukraine-/Russia-Related Sanctions Regulations, 31 CFR 589.201 and/or 589.209; Vessel Registration Identification IMO 9307724; MMSI 273318120 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

126. SERENADE (8P2363) Chemical/Oil Tanker Barbados flag; Secondary sanctions risk: See Section 11 of Executive Order 14024.; alt. Secondary sanctions risk: Ukraine-/Russia-Related Sanctions Regulations, 31 CFR 589.201 and/or 589.209; Vessel Registration Identification IMO 9318541; MMSI 314897000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

127. SHTURMAN ALBANOV (UBXO2) Crude Oil Tanker Russia flag; Secondary sanctions risk: See Section 11 of Executive Order 14024.; alt. Secondary sanctions risk: Ukraine-/Russia-Related Sanctions Regulations, 31 CFR 589.201 and/or 589.209; Vessel Registration Identification IMO 9752084; MMSI 273397870 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

128. SHTURMAN KOSHELEV (UCMR) Products Tanker Russia flag; Secondary sanctions risk: See Section 11 of Executive Order 14024.; alt. Secondary sanctions risk: Ukraine-/Russia-Related Sanctions Regulations, 31 CFR 589.201 and/or 589.209; Vessel Registration Identification IMO 9759939; MMSI 273391160 (vessel) [UKRAINE-EO13662] [RUSSIA-EO14024] (Linked To: GAZPROMNEFT MARINE BUNKER LIMITED LIABILITY COMPANY).

Identified as property in which GAZPROMNEFT MARINE BUNKER LIMITED LIABILITY COMPANY, a person whose property and interests in property are blocked pursuant to E.O. 13662, has an interest.

Identified as property in which GAZPROMNEFT MARINE BUNKER LIMITED LIABILITY COMPANY, a person whose property and interests in property are blocked pursuant to E.O. 14024, has an interest.

129. SHTURMAN MALYGIN (UHBP) Crude Oil Tanker Russia flag; Secondary sanctions risk: See Section 11 of Executive Order 14024.; alt. Secondary sanctions risk: Ukraine-/Russia-Related Sanctions Regulations, 31 CFR 589.201 and/or 589.209; Vessel Registration Identification IMO 9752096; MMSI 273398780 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

130. SHTURMAN OVTSYN (UBEP3) Crude Oil Tanker Russia flag; Secondary sanctions risk: See Section 11 of Executive Order 14024.; alt. Secondary sanctions risk: Ukraine-/Russia-Related Sanctions Regulations, 31 CFR 589.201 and/or 589.209; Vessel Registration Identification IMO 9752101; MMSI 273391790 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

131. SHTURMAN SHCHERBININ (UEXZ) Products Tanker Russia flag; Secondary sanctions risk: See Section 11 of Executive Order 14024.; alt. Secondary sanctions risk: Ukraine-/Russia-Related Sanctions Regulations, 31 CFR 589.201 and/or 589.209; Vessel Registration Identification IMO 9759927; MMSI 273385570 (vessel) [UKRAINE-EO13662] [RUSSIA-EO14024] (Linked To: GAZPROMNEFT MARINE BUNKER LIMITED LIABILITY COMPANY).

Identified as property in which GAZPROMNEFT MARINE BUNKER LIMITED LIABILITY COMPANY, a person whose property and interests in property are blocked pursuant to E.O. 13662, has an interest.

Identified as property in which GAZPROMNEFT MARINE BUNKER LIMITED LIABILITY COMPANY, a person whose property and interests in property are blocked pursuant to E.O. 14024, has an interest.

132. SHTURMAN SKURATOV (UBFP4) Products Tanker Russia flag; Secondary sanctions risk: See Section 11 of Executive Order 14024.; alt. Secondary sanctions risk: Ukraine-/Russia-Related Sanctions Regulations, 31 CFR 589.201 and/or 589.209; Vessel Registration Identification IMO 9759915; MMSI 273392990 (vessel) [UKRAINE-EO13662] [RUSSIA-EO14024] (Linked To: GAZPROMNEFT MARINE BUNKER LIMITED LIABILITY COMPANY).

Identified as property in which GAZPROMNEFT MARINE BUNKER LIMITED LIABILITY COMPANY, a person whose property and interests in property are blocked pursuant to E.O. 13662, has an interest.

Identified as property in which GAZPROMNEFT MARINE BUNKER LIMITED LIABILITY COMPANY, a person whose property and interests in property are blocked pursuant to E.O. 14024, has an interest.

133. SHUN TAI (5LIC9) Crude Oil Tanker Liberia flag; Secondary sanctions risk: See Section 11 of Executive Order 14024.; alt. Secondary sanctions risk: Ukraine-/Russia-Related Sanctions Regulations, 31 CFR 589.201 and/or 589.209; Vessel Registration Identification IMO 9242223; MMSI 636022303 (vessel) [UKRAINE-EO13662] [RUSSIA-EO14024] (Linked To: SYMI SHIPPING LIMITED).

Identified as property in which SYMI SHIPPING LIMITED, a person whose property and interests in property are blocked pursuant to E.O. 13662, has an interest.

Identified as property in which SYMI SHIPPING LIMITED, a person whose property and interests in property are blocked pursuant to E.O. 14024, has an interest.

134. SI HE (3E4703) Products Tanker Panama flag; Secondary sanctions risk: See Section 11 of Executive Order 14024.; alt. Secondary sanctions risk: Ukraine-/Russia-Related Sanctions Regulations, 31 CFR 589.201 and/or 589.209; Vessel Registration Identification IMO 9378618; MMSI 352002948 (vessel) [UKRAINE-EO13662] [RUSSIA-EO14024] (Linked To: LOENGO SHIPPING AND TRADER LIMITED).

Identified as property in which LOENGO SHIPPING AND TRADER LIMITED, a person whose property and interests in property are blocked pursuant to E.O. 13662, has an interest.

Identified as property in which LOENGO SHIPPING AND TRADER LIMITED, a person whose property and interests in property are blocked pursuant to E.O. 14024, has an interest.

135. SIRIUS (8P2496) Crude Oil Tanker Barbados flag; Secondary sanctions risk: See Section 11 of Executive Order 14024.; alt. Secondary sanctions risk: Ukraine-/Russia-Related Sanctions Regulations, 31 CFR 589.201 and/or 589.209; Vessel Registration Identification IMO 9422445; MMSI 314988000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

136. SIRIUS 1 (3E5824) Crude Oil Tanker Panama flag; Secondary sanctions risk: See Section 11 of Executive Order 14024.; alt. Secondary sanctions risk: Ukraine-/Russia-Related Sanctions Regulations, 31 CFR 589.201 and/or 589.209; Vessel Registration Identification IMO 9285847; MMSI 352003720 (vessel) [UKRAINE-EO13662] [RUSSIA-EO14024] (Linked To: SINO SHIP MANAGEMENT COMPANY LIMITED).

Identified as property in which SINO SHIP MANAGEMENT COMPANY LIMITED, a person whose property and interests in property are blocked pursuant to E.O. 13662, has an interest.

Identified as property in which SINO SHIP MANAGEMENT COMPANY LIMITED, a person whose property and interests in property are blocked pursuant to E.O. 14024, has an interest.

137. SIVAS (3E2642) Crude Oil Tanker Panama flag; Secondary sanctions risk: See Section 11 of Executive Order 14024.; alt. Secondary sanctions risk: Ukraine-/Russia-Related Sanctions Regulations, 31 CFR 589.201 and/or 589.209; Vessel Registration Identification IMO 9419137; MMSI 352002488 (vessel) [UKRAINE-EO13662] [RUSSIA-EO14024] (Linked To: PROMINENT SHIPMANAGEMENT LIMITED).

Identified as property in which PROMINENT SHIPMANAGEMENT LIMITED, a person whose property and interests in property are blocked pursuant to E.O. 13662, has an interest.

Identified as property in which PROMINENT SHIPMANAGEMENT LIMITED, a person whose property and interests in property are blocked pursuant to E.O. 14024, has an interest.

138. STEPAN MAKAROV (UAOZ) Supply Vessel Russia flag; Secondary sanctions risk: See Section 11 of Executive Order 14024.; alt. Secondary sanctions risk: Ukraine-/Russia-Related Sanctions Regulations, 31 CFR 589.201 and/or 589.209; Vessel Registration Identification IMO 9753727; MMSI 273392530 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

139. SUCCESS (8P2257) Products Tanker Barbados flag; Secondary sanctions risk: See Section 11 of Executive Order 14024.; alt. Secondary sanctions risk: Ukraine-/Russia-Related Sanctions Regulations, 31 CFR 589.201 and/or 589.209; Vessel Registration Identification IMO 9333436; MMSI 314893000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

140. SURREY QUAYS (3E2363) Crude Oil Tanker Panama flag; Secondary sanctions risk: See Section 11 of Executive Order 14024.; alt. Secondary sanctions risk: Ukraine-/Russia-Related Sanctions Regulations, 31 CFR 589.201 and/or 589.209; Vessel Registration Identification IMO 9350654; MMSI 352002589 (vessel) [UKRAINE-EO13662] [RUSSIA-EO14024] (Linked To: SURREY QUAYS COMPANY LIMITED).

Identified as property in which SURREY QUAYS COMPANY LIMITED, a person whose property and interests in property are blocked pursuant to E.O. 13662, has an interest.

Identified as property in which SURREY QUAYS COMPANY LIMITED, a person whose property and interests in property are blocked pursuant to E.O. 14024, has an interest.

141. SVYATOY KNYAZ VLADIMIR (UBUP4) Passenger Russia flag; Secondary sanctions risk: See Section 11 of Executive Order 14024.; alt. Secondary sanctions risk: Ukraine-/Russia-Related Sanctions Regulations, 31 CFR 589.201 and/or 589.209; Vessel Registration Identification IMO 9678238; MMSI 273393630 (vessel) [UKRAINE-EO13662] [RUSSIA-EO14024] (Linked To: JOINT STOCK COMPANY ROSNEFTEFLOT).

Identified as property in which JOINT STOCK COMPANY ROSNEFTEFLOT, a person whose property and interests in property are blocked pursuant to E.O. 13662, has an interest.

Identified as property in which JOINT STOCK COMPANY ROSNEFTEFLOT, a person whose property and interests in property are blocked pursuant to E.O. 14024, has an interest.

142. SYMPHONY (8P2445) Chemical/Oil Tanker Barbados flag; Secondary sanctions risk: See Section 11 of Executive Order 14024.; alt. Secondary sanctions risk: Ukraine-/Russia-Related Sanctions Regulations, 31 CFR 589.201 and/or 589.209; Vessel Registration Identification IMO 9309588; MMSI 314947000 (vessel) [UKRAINE-EO13662] [RUSSIA-EO14024] (Linked To: FORNAX SHIP MANAGEMENT FZCO).

Identified as property in which FORNAX SHIP MANAGEMENT FZCO, a person whose property and interests in property are blocked pursuant to E.O. 13662, has an interest.

Identified as property in which FORNAX SHIP MANAGEMENT FZCO, a person whose property and interests in property are blocked pursuant to E.O. 14024, has an interest.

143. TALISMAN (8P2456) Products Tanker Barbados flag; Secondary sanctions risk: See Section 11 of Executive Order 14024.; alt. Secondary sanctions risk: Ukraine-/Russia-Related Sanctions Regulations, 31 CFR 589.201 and/or 589.209; Vessel Year of Build 2006; Vessel Registration Identification IMO 9292060; MMSI 314956000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

144. TANGO (8P2442) Products Tanker Barbados flag; Secondary sanctions risk: See Section 11 of Executive Order 14024.; alt. Secondary sanctions risk: Ukraine-/Russia-Related Sanctions Regulations, 31 CFR 589.201 and/or 589.209; Vessel Year of Build 2006; Vessel Registration Identification IMO 9292058; MMSI 314944000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

145. TASCA (3E2647) Crude Oil Tanker Panama flag; Secondary sanctions risk: See Section 11 of Executive Order 14024.; alt. Secondary sanctions risk: Ukraine-/Russia-Related Sanctions Regulations, 31 CFR 589.201 and/or 589.209; Vessel Registration Identification IMO 9313149; MMSI 352002494 (vessel) [UKRAINE-EO13662] [RUSSIA-EO14024] (Linked To: SUNNE CO LIMITED).

Identified as property in which SUNNE CO LIMITED, a person whose property and interests in property are blocked pursuant to E.O. 13662, has an interest.

Identified as property in which SUNNE CO LIMITED, a person whose property and interests in property are blocked pursuant to E.O. 14024, has an interest.

146. THALIA III (3E3812) Crude Oil Tanker Panama flag; Secondary sanctions risk: See Section 11 of Executive Order 14024.; alt. Secondary sanctions risk: Ukraine-/Russia-Related Sanctions Regulations, 31 CFR 589.201 and/or 589.209; Vessel Registration Identification IMO 9259197; MMSI 352002137 (vessel) [UKRAINE-EO13662] [RUSSIA-EO14024] (Linked To: SELENA LIVELY LIMITED).

Identified as property in which SELENA LIVELY LIMITED, a person whose property and interests in property are blocked pursuant to E.O. 13662, has an interest.

Identified as property in which SELENA LIVELY LIMITED, a person whose property and interests in property are blocked pursuant to E.O. 14024, has an interest.

147. TIMOFEY GUZHENKO (UBQF5) Crude Oil Tanker Russia flag; Secondary sanctions risk: See Section 11 of Executive Order 14024.; alt. Secondary sanctions risk: Ukraine-/Russia-Related Sanctions Regulations, 31 CFR 589.201 and/or 589.209; Vessel Registration Identification IMO 9372561; MMSI 273330620 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

148. TIS (UBXP4) Tug Russia flag; Secondary sanctions risk: See Section 11 of Executive Order 14024.; alt. Secondary sanctions risk: Ukraine-/Russia-Related Sanctions Regulations, 31 CFR 589.201 and/or 589.209; Vessel Registration Identification IMO 9817779; MMSI 273396740 (vessel) [UKRAINE-EO13662] [RUSSIA-EO14024] (Linked To: RPK NORD LIMITED LIABILITY COMPANY).

Identified as property in which RPK NORD LIMITED LIABILITY COMPANY, a person whose property and interests in property are blocked pursuant to E.O. 13662, has an interest.

Identified as property in which RPK NORD LIMITED LIABILITY COMPANY, a person whose property and interests in property are blocked pursuant to E.O. 14024, has an interest.

149. TOPAZ (8P2459) Products Tanker Barbados flag; Secondary sanctions risk: See Section 11 of Executive Order 14024.; alt. Secondary sanctions risk: Ukraine-/Russia-Related Sanctions Regulations, 31 CFR 589.201 and/or 589.209; Vessel Year of Build 2004; Vessel Registration Identification IMO 9292034; MMSI 314959000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

150. TRIUMPH (8P2439) Products Tanker Barbados flag; Secondary sanctions risk: See Section 11 of Executive Order 14024.; alt. Secondary sanctions risk: Ukraine-/Russia-Related Sanctions Regulations, 31 CFR 589.201 and/or 589.209; Vessel Year of Build 2007; Vessel Registration Identification IMO 9344033; MMSI 314943000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

151. TRUST (8P2453) Products Tanker Barbados flag; Secondary sanctions risk: See Section 11 of Executive Order 14024.; alt. Secondary sanctions risk: Ukraine-/Russia-Related Sanctions Regulations, 31 CFR 589.201 and/or 589.209; Vessel Year of Build 2008; Vessel Registration Identification IMO 9382798; MMSI 314953000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

152. TURACO (3E4698) Crude Oil Tanker Panama flag; Secondary sanctions risk: See Section 11 of Executive Order 14024.; alt. Secondary sanctions risk: Ukraine-/Russia-Related Sanctions Regulations, 31 CFR 589.201 and/or 589.209; Vessel Registration Identification IMO 9247780; MMSI 352002942 (vessel) [UKRAINE-EO13662] [RUSSIA-EO14024] (Linked To: SINO SHIP MANAGEMENT COMPANY LIMITED).

Identified as property in which SINO SHIP MANAGEMENT COMPANY LIMITED, a person whose property and interests in property are blocked pursuant to E.O. 13662, has an interest.

Identified as property in which SINO SHIP MANAGEMENT COMPANY LIMITED, a person whose property and interests in property are blocked pursuant to E.O. 14024, has an interest.

153. TYMEN (UBIK8) Chemical/Oil Tanker Russia flag; Secondary sanctions risk: See Section 11 of Executive Order 14024.; alt. Secondary sanctions risk: Ukraine-/Russia-Related Sanctions Regulations, 31 CFR 589.201 and/or 589.209; Vessel Registration Identification IMO 9422653; MMSI 273334570 (vessel) [UKRAINE-EO13662] [RUSSIA-EO14024] (Linked To: GAZPROMNEFT MARINE BUNKER LIMITED

Identified as property in which GAZPROMNEFT MARINE BUNKER LIMITED LIABILITY COMPANY, a person whose property and interests in property are blocked pursuant to E.O. 13662, has an interest.

Identified as property in which GAZPROMNEFT MARINE BUNKER LIMITED LIABILITY COMPANY, a person whose property and interests in property are blocked pursuant to E.O. 14024, has an interest.

154. UMBA (UEIW) Floating Storage Tanker Russia flag; Secondary sanctions risk: See Section 11 of Executive Order 14024.; alt. Secondary sanctions risk: Ukraine-/Russia-Related Sanctions Regulations, 31 CFR 589.201 and/or 589.209; Vessel Registration Identification IMO 9196620; MMSI 273387920 (vessel) [UKRAINE-EO13662] [RUSSIA-EO14024] (Linked To: RPK NORD LIMITED LIABILITY COMPANY).

Identified as property in which RPK NORD LIMITED LIABILITY COMPANY, a person whose property and interests in property are blocked pursuant to E.O. 13662, has an interest.

Identified as property in which RPK NORD LIMITED LIABILITY COMPANY, a person whose property and interests in property are blocked pursuant to E.O. 14024, has an interest.

155. UNIVERSAL (8P2454) Chemical/Oil Tanker Barbados flag; Secondary sanctions risk: See Section 11 of Executive Order 14024.; alt. Secondary sanctions risk: Ukraine-/Russia-Related Sanctions Regulations, 31 CFR 589.201 and/or 589.209; Vessel Year of Build 2009; Vessel Registration Identification IMO 9384306; MMSI 314954000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

156. VALENTIN PIKUL (UAAA2) Crude Oil Tanker Russia flag; Secondary sanctions risk: See Section 11 of Executive Order 14024.; alt. Secondary sanctions risk: Ukraine-/Russia-Related Sanctions Regulations, 31 CFR 589.201 and/or 589.209; Vessel Registration Identification IMO 9885879; MMSI 273259920 (vessel) [UKRAINE-EO13662] [RUSSIA-EO14024] (Linked To: JOINT STOCK COMPANY ROSNEFTEFLOT).

Identified as property in which JOINT STOCK COMPANY ROSNEFTEFLOT, a person whose property and interests in property are blocked pursuant to E.O. 13662, has an interest.

Identified as property in which JOINT STOCK COMPANY ROSNEFTEFLOT, a person whose property and interests in property are blocked pursuant to E.O. 14024, has an interest.

157. VALOUR (3E6071) Products Tanker Panama flag; Secondary sanctions risk: See Section 11 of Executive Order 14024.; alt. Secondary sanctions risk: Ukraine-/Russia-Related Sanctions Regulations, 31 CFR 589.201 and/or 589.209; Vessel Registration Identification IMO 9832559; MMSI 352003207 (vessel) [UKRAINE-EO13662] [RUSSIA-EO14024] (Linked To: PROMINENT SHIPMANAGEMENT LIMITED).

Identified as property in which PROMINENT SHIPMANAGEMENT LIMITED, a person whose property and interests in property are blocked pursuant to E.O. 13662, has an interest.

Identified as property in which PROMINENT SHIPMANAGEMENT LIMITED, a person whose property and interests in property are blocked pursuant to E.O. 14024, has an interest.

158. VANGUARD (8P2469) Crude Oil Tanker Barbados flag; Secondary sanctions risk: See Section 11 of Executive Order 14024.; alt. Secondary sanctions risk: Ukraine-/Russia-Related Sanctions Regulations, 31 CFR 589.201 and/or 589.209; Vessel Registration Identification IMO 9311622; MMSI 314967000 (vessel) [UKRAINE-EO13662] [RUSSIA-EO14024] (Linked To: STREAM SHIP MANAGEMENT FZCO).

Identified as property in which STREAM SHIP MANAGEMENT FZCO, a person whose property and interests in property are blocked pursuant to E.O. 13662, has an interest.

Identified as property in which STREAM SHIP MANAGEMENT FZCO, a person whose property and interests in property are blocked pursuant to E.O. 14024, has an interest.

159. VASILY DINKOV (UEVN) Crude Oil Tanker Russia flag; Secondary sanctions risk: See Section 11 of Executive Order 14024.; alt. Secondary sanctions risk: Ukraine-/Russia-Related Sanctions Regulations, 31 CFR 589.201 and/or 589.209; Vessel Registration Identification IMO 9372547; MMSI 273345020 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

160. VELIKIY NOVGOROD (8P2422) LNG Carrier Barbados flag; Secondary sanctions risk: See Section 11 of Executive Order 14024.; alt. Secondary sanctions risk: Ukraine-/Russia-Related Sanctions Regulations, 31 CFR 589.201 and/or 589.209; Vessel Registration Identification IMO 9630004; MMSI 314928000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

161. VENTURE (3E7423) Crude Oil Tanker Panama flag; Secondary sanctions risk: See Section 11 of Executive Order 14024.; alt. Secondary sanctions risk: Ukraine-/Russia-Related Sanctions Regulations, 31 CFR 589.201 and/or 589.209; Vessel Registration Identification IMO 9832547; MMSI 352003251 (vessel) [UKRAINE-EO13662] [RUSSIA-EO14024] (Linked To: PROMINENT SHIPMANAGEMENT LIMITED).

Identified as property in which PROMINENT SHIPMANAGEMENT LIMITED, a person whose property and interests in property are blocked pursuant to E.O. 13662, has an interest.

Identified as property in which PROMINENT SHIPMANAGEMENT LIMITED, a person whose property and interests in property are blocked pursuant to E.O. 14024, has an interest.

162. VESNA (V3MD7) Crude Oil Tanker Belize flag; Secondary sanctions risk: See Section 11 of Executive Order 14024.; alt. Secondary sanctions risk: Ukraine-/Russia-Related Sanctions Regulations, 31 CFR 589.201 and/or 589.209; Vessel Registration Identification IMO 9233349; MMSI 312242000 (vessel) [UKRAINE-EO13662] [IRAN-EO13902] [RUSSIA-EO14024] (Linked To: SHANGHAI LEGENDARY SHIP MANAGEMENT COMPANY LIMITED; Linked To: DANIKA ROBERT LIMITED).

Identified as property in which DANIKA ROBERT LIMITED, a person whose property and interests in property are blocked pursuant to E.O. 13662, has an interest.

Identified as property in which DANIKA ROBERT LIMITED, a person whose property and interests in property are blocked pursuant to E.O. 14024, has an interest.

163. VICTOR KONETSKY (3E4134) Shuttle Tanker Panama flag; Secondary sanctions risk: See Section 11 of Executive Order 14024.; alt. Secondary sanctions risk: Ukraine-/Russia-Related Sanctions Regulations, 31 CFR 589.201 and/or 589.209; Vessel Registration Identification IMO 9301421; MMSI 352002197 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

164. VIKTOR TITOV (3E4141) Crude Oil Tanker Panama flag; Secondary sanctions risk: See Section 11 of Executive Order 14024.; alt. Secondary sanctions risk: Ukraine-/Russia-Related Sanctions Regulations, 31 CFR 589.201 and/or 589.209; Vessel Registration Identification IMO 9301407; MMSI 352002204 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

165. VITUS BERING (UBGJ9) Supply Vessel Russia flag; Secondary sanctions risk: See Section 11 of Executive Order 14024.; alt. Secondary sanctions risk: Ukraine-/Russia-Related Sanctions Regulations, 31 CFR 589.201 and/or 589.209; Vessel Registration Identification IMO 9613549; MMSI 273358680 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

166. VLADIMIR ARSENYEV (3E4140) Crude Oil Tanker Panama flag; Secondary sanctions risk: See Section 11 of Executive Order 14024.; alt. Secondary sanctions risk: Ukraine-/Russia-Related Sanctions Regulations, 31 CFR 589.201 and/or 589.209; Vessel Registration Identification IMO 9901025; MMSI 352002203 (vessel) [UKRAINE-EO13662] [RUSSIA-EO14024] (Linked To: STREAM SHIP MANAGEMENT FZCO).

Identified as property in which STREAM SHIP MANAGEMENT FZCO, a person whose property and interests in property are blocked pursuant to E.O. 13662, has an interest.

Identified as property in which STREAM SHIP MANAGEMENT FZCO, a person whose property and interests in property are blocked pursuant to E.O. 14024, has an interest.

167. VLADIMIR MONOMAKH (UBUT6) Crude Oil Tanker Russia flag; Secondary sanctions risk: See Section 11 of Executive Order 14024.; alt. Secondary sanctions risk: Ukraine-/Russia-Related Sanctions Regulations, 31 CFR 589.201 and/or 589.209; Vessel Registration Identification IMO 9842176; MMSI 273211040 (vessel) [UKRAINE-EO13662] [RUSSIA-EO14024] (Linked To: JOINT STOCK COMPANY ROSNEFTEFLOT).

Identified as property in which JOINT STOCK COMPANY ROSNEFTEFLOT, a person whose property and interests in property are blocked pursuant to E.O. 13662, has an interest.

Identified as property in which JOINT STOCK COMPANY ROSNEFTEFLOT, a person whose property and interests in property are blocked pursuant to E.O. 14024, has an interest.

168. VLADIMIR VINOGRADOV (UBTV8) Crude Oil Tanker Russia flag; Secondary sanctions risk: See Section 11 of Executive Order 14024.; alt. Secondary sanctions risk: Ukraine-/Russia-Related Sanctions Regulations, 31 CFR 589.201 and/or 589.209; Vessel Registration Identification IMO 9842188; MMSI 273295230 (vessel) [UKRAINE-EO13662] [RUSSIA-EO14024] (Linked To: JOINT STOCK COMPANY ROSNEFTEFLOT).

Identified as property in which JOINT STOCK COMPANY ROSNEFTEFLOT, a person whose property and interests in property are blocked pursuant to E.O. 13662, has an interest.

Identified as property in which JOINT STOCK COMPANY ROSNEFTEFLOT, a person whose property and interests in property are blocked pursuant to E.O. 14024, has an interest.

169. VOSTOCHNY PROSPECT (UBEZ2) LNG Carrier Russia flag; Secondary sanctions risk: See Section 11 of Executive Order 14024.; alt. Secondary sanctions risk: Ukraine-/Russia-Related Sanctions Regulations, 31 CFR 589.201 and/or 589.209; Vessel Registration Identification IMO 9866392; MMSI 273611590 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

170. VOYAGER (8P2374) Crude Oil Tanker Barbados flag; Secondary sanctions risk: See Section 11 of Executive Order 14024.; alt. Secondary sanctions risk: Ukraine-/Russia-Related Sanctions Regulations, 31 CFR 589.201 and/or 589.209; Vessel Registration Identification IMO 9843560; MMSI 314906000 (vessel) [UKRAINE-EO13662] [RUSSIA-EO14024] (Linked To: STREAM SHIP MANAGEMENT FZCO).

Identified as property in which STREAM SHIP MANAGEMENT FZCO, a person whose property and interests in property are blocked pursuant to E.O. 13662, has an interest.

Identified as property in which STREAM SHIP MANAGEMENT FZCO, a person whose property and interests in property are blocked pursuant to E.O. 14024, has an interest.

171. VYACHESLAV TIKHONOV (UBSH6) Research Vessel Russia flag; Secondary sanctions risk: See Section 11 of Executive Order 14024.; alt. Secondary sanctions risk: Ukraine-/Russia-Related Sanctions Regulations, 31 CFR 589.201 and/or 589.209; Vessel Registration Identification IMO 9538115; MMSI 273350140 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

172. VYAZ (UBXQ5) Tug Russia flag; Secondary sanctions risk: See Section 11 of Executive Order 14024.; alt. Secondary sanctions risk: Ukraine-/Russia-Related Sanctions Regulations, 31 CFR 589.201 and/or 589.209; Vessel Registration Identification IMO 9804057; MMSI 273418480 (vessel) [UKRAINE-EO13662] [RUSSIA-EO14024] (Linked To: RPK NORD LIMITED LIABILITY COMPANY).

Identified as property in which RPK NORD LIMITED LIABILITY COMPANY, a person whose property and interests in property are blocked pursuant to E.O. 13662, has an interest.

Identified as property in which RPK NORD LIMITED LIABILITY COMPANY, a person whose property and interests in property are blocked pursuant to E.O. 14024, has an interest.

173. WEI FENG (3E4609) Crude Oil Tanker Panama flag; Secondary sanctions risk: See Section 11 of Executive Order 14024.; alt. Secondary sanctions risk: Ukraine-/Russia-Related Sanctions Regulations, 31 CFR 589.201 and/or 589.209; Vessel Registration Identification IMO 9388754; MMSI 352002820 (vessel) [UKRAINE-EO13662] [RUSSIA-EO14024] (Linked To: XINGFU HAI SHIPPING LIMITED).

Identified as property in which XINGFU HAI SHIPPING LIMITED, a person whose property and interests in property are blocked pursuant to E.O. 13662, has an interest.

Identified as property in which XINGFU HAI SHIPPING LIMITED, a person whose property and interests in property are blocked pursuant to E.O. 14024, has an interest.

174. YARD NO.131040 ZVEZDA-DSME Crew/Supply Vessel Russia flag; Secondary sanctions risk: See Section 11 of Executive Order 14024.; alt. Secondary sanctions risk: Ukraine-/Russia-Related Sanctions Regulations, 31 CFR 589.201 and/or 589.209; Vessel Registration Identification IMO 9842205 (vessel) [UKRAINE-EO13662] [RUSSIA-EO14024] (Linked To: JOINT STOCK COMPANY ROSNEFTEFLOT).

Identified as property in which JOINT STOCK COMPANY ROSNEFTEFLOT, a person whose property and interests in property are blocked pursuant to E.O. 13662, has an interest.

Identified as property in which JOINT STOCK COMPANY ROSNEFTEFLOT, a person whose property and interests in property are blocked pursuant to E.O. 14024, has an interest.

175. YARD NO.131080 ZVEZDA-DSME Crude Oil Tanker Russia flag; Secondary sanctions risk: See Section 11 of Executive Order 14024.; alt. Secondary sanctions risk: Ukraine-/Russia-Related Sanctions Regulations, 31 CFR 589.201 and/or 589.209; Vessel Registration Identification IMO 9908994 (vessel) [UKRAINE-EO13662] [RUSSIA-EO14024] (Linked To: JOINT STOCK COMPANY ROSNEFTEFLOT).

Identified as property in which JOINT STOCK COMPANY ROSNEFTEFLOT, a person whose property and interests in property are blocked pursuant to E.O. 13662, has an interest.

Identified as property in which JOINT STOCK COMPANY ROSNEFTEFLOT, a person whose property and interests in property are blocked pursuant to E.O. 14024, has an interest.

176. YEVGENY PRIMAKOV (UAUH) Supply Vessel Russia flag; Secondary sanctions risk: See Section 11 of Executive Order 14024.; alt. Secondary sanctions risk: Ukraine-/Russia-Related Sanctions Regulations, 31 CFR 589.201 and/or 589.209; Vessel Registration Identification IMO 9753741; MMSI 273412440 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

177. YURI SENKEVICH (3E4135) Crude Oil Tanker Panama flag; Secondary sanctions risk: See Section 11 of Executive Order 14024.; alt. Secondary sanctions risk: Ukraine-/Russia-Related Sanctions Regulations, 31 CFR 589.201 and/or 589.209; Vessel Registration Identification IMO 9301419; MMSI 352002198 (vessel) [UKRAINE-EO13662] [RUSSIA-EO14024] (Linked To: STREAM SHIP MANAGEMENT FZCO).

Identified as property in which STREAM SHIP MANAGEMENT FZCO, a person whose property and interests in property are blocked pursuant to E.O. 13662, has an interest.

Identified as property in which STREAM SHIP MANAGEMENT FZCO, a person whose property and interests in property are blocked pursuant to E.O. 14024, has an interest.

178. ZALIV AMERIKA (3E7520) Crude Oil Tanker Panama flag; Secondary sanctions risk: See Section 11 of Executive Order 14024.; alt. Secondary sanctions risk: Ukraine-/Russia-Related Sanctions Regulations, 31 CFR 589.201 and/or 589.209; Vessel Registration Identification IMO 9354301; MMSI 352003366 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

179. ZALIV AMURSKIY (3E7519) Crude Oil Tanker Panama flag; Secondary sanctions risk: See Section 11 of Executive Order 14024.; alt. Secondary sanctions risk: Ukraine-/Russia-Related Sanctions Regulations, 31 CFR 589.201 and/or 589.209; Vessel Registration Identification IMO 9354313; MMSI 352003364 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

180. ZALIV ANIVA (3E3486) Crude Oil Tanker Panama flag; Secondary sanctions risk: See Section 11 of Executive Order 14024.; alt. Secondary sanctions risk: Ukraine-/Russia-Related Sanctions Regulations, 31 CFR 589.201 and/or 589.209; Vessel Registration Identification IMO 9418494; MMSI 352002209 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

181. ZALIV BAIKAL (3E4131) Shuttle Tanker Panama flag; Secondary sanctions risk: See Section 11 of Executive Order 14024.; alt. Secondary sanctions risk: Ukraine-/Russia-Related Sanctions Regulations, 31 CFR 589.201 and/or 589.209; Vessel Registration Identification IMO 9360128; MMSI 352002194 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

182. ZALIV VOSTOK (3E4133) Crude Oil Tanker Panama flag; Secondary sanctions risk: See Section 11 of Executive Order 14024.; alt. Secondary sanctions risk: Ukraine-/Russia-Related Sanctions Regulations, 31 CFR 589.201 and/or 589.209; Vessel Registration Identification IMO 9360130; MMSI 352002196 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

183. ZENITH (8P2448) Crude Oil Tanker Barbados flag; Secondary sanctions risk: See Section 11 of Executive Order 14024.; alt. Secondary sanctions risk: Ukraine-/Russia-Related Sanctions Regulations, 31 CFR 589.201 and/or 589.209; Vessel Registration Identification IMO 9610781; MMSI 314950000 (vessel) [UKRAINE-EO13662] [RUSSIA-EO14024] (Linked To: JOINT STOCK COMPANY SOVCOMFLOT).

Identified as property in which JOINT STOCK COMPANY SOVCOMFLOT, a person whose property and interests in property are blocked pursuant to E.O. 13662, has an interest.

Identified as property in which JOINT STOCK COMPANY SOVCOMFLOT, a person whose property and interests in property are blocked pursuant to E.O. 14024, has an interest.

Lisa M. Palluconi,
Acting Director, Office of Foreign Assets Control.

[FR Doc. 2025-01433 Filed 1-21-25; 8:45 am]

BILLING CODE 4810-AL-P